DEPARTMENT OF AGRICULTURE

Office of the Secretary

7 CFR Part 2

RIN 0503-AA41

Revision of Delegations of Authority

AGENCY: Office of the Secretary, USDA.

ACTION: Final rule.

SUMMARY: This document revises the delegations of authority from the Secretary of Agriculture and general officers of the Department of Agriculture (USDA) principally to reflect changes to the delegations required by the reorganization of Departmental Staff Offices, Departmental Administration, and the Assistant Secretary for Civil Rights under the newly named “Departmental Management,” led by the Assistant Secretary for Administration. Other additions, deletions, and changes are made as summarized below.

DATES: Effective Date: Effective July 23, 2010.

FOR FURTHER INFORMATION CONTACT: Roberta Jeanquart, Chief of Staff, Office of the Assistant Secretary for Administration, USDA 1400 Independence Ave., SW., Stop 0103, Washington, DC 20250-0103 Phone (202) 720-3291 E-mail: bobbi.jeanquart@osec.usda.gov.

SUPPLEMENTARY INFORMATION:

Departmental Management Reorganization

Effective October 1, 2009, the Secretary of Agriculture (“Secretary”) implemented within USDA a reorganization of Departmental Staff Offices, Departmental Administration, and the Assistant Secretary for Civil Rights (“ASCR”) under the newly named “Departmental Management,” led by the Assistant Secretary for Administration (“ASA”). For further information, see Secretary's Memorandum 1060-001, “Reorganization of Departmental Staff Offices, Departmental Administration, and Assistant Secretary for Civil Rights,” available at http://www.ocio.usda.gov/directives/doc/SM1060-001.pdf. This rulemaking amends USDA's delegations of authority at 7 CFR part 2 principally to reflect this reorganization.

Under the reorganized Departmental Management organization, the following officials within USDA report directly to the ASA: Assistant Secretary for Civil Rights (“ASCR”); Chief Information Officer (“CIO”); ¹ Chief Financial Officer (“CFO”); ² Director, Office of Human Resources Management (“OHRM”); Director, Office of Small and Disadvantaged Business Utilization (“OSDBU”); Director, Office of Procurement and Property Management (“OPPM”); Director, Office of Advocacy and Outreach (“OAO”); Director, Office of Homeland Security and Emergency Coordination (“OHSEC”); ³ Director, Office of Operations (“OO”); Director, Office of the Executive Secretariat (“OES”); and Director, Management Services. The ASA continues to provide administrative supervision of the Office of Administrative Law Judges (“OALJ”). Pursuant to this new reporting structure, the Secretary has delegated to the ASA responsibilities in the following areas: civil rights; information technology and information resources; financial systems and budget formulation and execution; human resources management; small and disadvantaged business utilization; procurement and property management; advocacy and outreach; homeland security, personnel and document security, and emergency coordination; operations support; Secretarial correspondence; and shared management services. The ASA continues to provide administrative supervision of the OALJ and has delegated the authority to assign certain proceedings to the OALJ and maintain overall responsibility and control over the OALJ Hearing Clerk's activities. Delegations from the Secretary to the ASA are reflected in 7 CFR part 2, subpart C, § 2.24.

¹ The Chief Information Officer continues to report directly to the Secretary regarding certain information technology matters as required by the Clinger-Cohen Act of 1996, 44 U.S.C. 3506. See 7 CFR 2.89(a)(1).

² The Chief Financial Officer continues to report directly to the Secretary regarding certain financial management matters as required by the Chief Financial Officers Act of 1990, 31 U.S.C. 902. See 7 CFR 2.90(a)(1).

³ The Director, OHSEC, reports directly to the Secretary with respect to certain functions delegated by the Secretary to the Director, OHSEC, regarding management of the personnel security functions of USDA and the safeguarding of certain national security information. See 7 CFR 2.95.

Delegations by the ASA to other officials are reflected in 7 CFR part 2, subpart P, as follows:

• Civil rights, to the ASCR (§ 2.88).

• Information technology and information resources, to the CIO (§ 2.89).

• Financial systems and budget formulation and execution, to the CFO (§ 2.90).

• Human resources management, to the Director, OHRM (§ 2.91).

• Small and disadvantaged business utilization, to the Director, OSDBU (§ 2.92).

• Procurement and property management, to the Director, OPPM (§ 2.93).

• Advocacy and outreach, to the Director, OAO (§ 2.94).

• Homeland security, personnel and document security, and emergency coordination, to the Director, OHSEC (§ 2.95).

• Operations support, to the Director, OO (§ 2.96).

• Secretarial correspondence, to the Director, OES (§ 2.97).

• Shared management services, to the Director, Management Services (§ 2.98).

Additionally, the ASA is delegating to the Deputy Assistant Secretaries of Administration the authority to perform the duties of the ASA during the absence or unavailability of the ASA (§ 2.87).

This rulemaking reflects the establishment of two new organizations within Departmental Management. First, the Office of Advocacy and Outreach (“OAO”) has been established pursuant to section 226B of the Department of Agriculture Reorganization Act of 1994 (7 U.S.C. 6934), as added by section 14013 of the Food, Conservation, and Energy Act of 2008, Public Law 110-246. The OAO was established to improve access to USDA programs and services by small farms and ranches, beginning farmers and ranchers, and socially disadvantaged farmers and ranchers. Delegations from the ASA to the Director, OAO are reflected in 7 CFR 2.94 and include certain advocacy and outreach functions previously carried out by other elements within USDA.

Second, Management Services has been established to service the human resources, information technology, budget, and procurement operational needs of the various offices that comprise Departmental Management. Delegations from the ASA to the Director, Management Services are reflected in 7 CFR 2.98.

This rulemaking also reflects the renaming of the Office of Homeland Security as the Office of Homeland Security and Emergency Coordination (“OHSEC”). The OHSEC provides Departmental executive leadership in Government-wide initiatives pertaining to physical security, emergency programs, personnel and document security, continuity of operations/continuity of government, homeland security, and operations center support to USDA emergency response and program operations nationwide. Delegations from the ASA to the Director, OHSEC are reflected in 7 CFR 2.95 and include certain physical and document security, emergency preparedness, and radiation safety functions previously carried out by other elements within USDA.

This rulemaking also reflects the abolishment of the Office of Planning and Coordination (delegations formerly at 7 CFR 2.94). Additionally, delegations from the ASCR to the Director, Office of Civil Rights (formerly at 7 CFR 2.300) are removed because the ASCR is now within the Departmental Management organization under the ASA (see § 2.88). A new delegation is added from the ASCR to the Deputy ASCR to perform the duties of the ASCR during his or her absence or unavailability (see § 2.300).

The rulemaking also reflects the reorganization of several functions within the Department. These include budget formulation and program analysis duties carried out by the Director, Office of Budget and Program Analysis (“OBPA”), which is now within the Office of the Chief Financial Officer (see § 2.501). The ethics function of the Department (formerly at 7 CFR 2.95), for purposes of administrative supervision only, is now within the Office of Human Resources Management (see § 2.91). Additionally, USDA special emphasis programs have moved from the ASCR to OHRM.

To implement the changes described above, the following section in 7 CFR part 2, subpart C (“Delegations of Authority to the Deputy Secretary, the Under Secretaries, and the Assistant Secretaries for Congressional Relations and Administration”), is being removed: § 2.25 (“Assistant Secretary for Civil Rights”). (Delegations of authority by the ASA to the ASCR are now reflected in 7 CFR part 2, subpart P, § 2.88.)

The following sections in 7 CFR part 2, subpart D (“Delegations of Authority to Other General Officers and Agency Heads”), are being removed: § 2.26 (“Director, Office of the Executive Secretariat”); § 2.28 (“Chief Financial Officer”); § 2.30 (“Director, Office of Budget and Program Analysis”); § 2.32 (“Director, Office of Homeland Security”); and § 2.37 (“Chief Information Officer”). (Delegations from the ASA to the Director, OES, are now reflected in 7 CFR part 2, subpart P, § 2.97; delegations from the ASA to the CFO are now reflected in 7 CFR part 2, subpart P, § 2.90; delegations from the CFO to the Director, OBPA, are now reflected in 7 CFR part 2, subpart T, § 2.501; delegations from the ASA to the Director, OHSEC, are now reflected in 7 CFR part 2, subpart P, § 2.95; and delegations from the ASA to the CIO are now reflected in 7 CFR part 2, subpart P, § 2.89.)

Subpart M (“Delegations of Authority by the Chief Financial Officer”) and § 2.75 (“Deputy Chief Financial Officer”) are being removed. (Delegations to the Deputy CFO are now reflected in a new subpart T, § 2.500.)

Subpart P (“Delegations of Authority by the Assistant Secretary for Administration”) is re-ordered to reflect the delegations to the officials within Departmental Management, as described above.

Subpart Q (“Delegations of Authority by the Chief Information Officer”) and § 2.200 (“Deputy Chief Information Officer”) are amended, respectively, to read “Delegations of Authority by the General Counsel” and “Deputy General Counsel.” (Delegations to the Deputy CIO are now reflected in a new subpart S, § 2.400.)

Subpart R (“Delegations of Authority by the Assistant Secretary for Civil Rights”) contains the new delegation from the ASCR to the Deputy ASCR to perform the duties of the ASCR during his or her absence or unavailability (see § 2.300).

Finally, to implement the reorganized Departmental Management organization, several conforming amendments are made to subpart C (§§ 2.16, 2.17, 2.20, and 2.21), subpart D (§ 2.27), subpart F (§ 2.42), subpart G (§§ 2.47, 2.48, and 2.49), subpart J (§ 2.61), and subpart K (§§ 2.65 and 2.66).

Other Delegations

This rulemaking also makes several other changes to 7 CFR part 2. The Secretarial order of succession in 7 CFR 2.5 is revised to reflect the current order of succession as established by Executive Order 13542, “Providing an Order of Succession Within the Department of Agriculture” (75 FR 27921, May 18, 2010). Amendments are made to §§ 2.4, 2.45, and 2.51 to correct obsolete or erroneous references. The delegations of authority from the Secretary to the Judicial Officer (§ 2.35) are updated to reflect the adjudicatory proceedings in which the Judicial Officer acts as the final deciding officer. Finally, a new delegation is added from the General Counsel to the Deputy General Counsel to perform the duties of the General Counsel during his or her absence or unavailability (§ 2.200).

Classification

This rule relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Public Law 96-354, and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Part 2

Authority delegations (Government agencies).

Accordingly, Title 7 of the Code of Federal Regulations is amended as set forth below:

PART 2—DELEGATIONS OF AUTHORITY BY THE SECRETARY OF AGRICULTURE AND GENERAL OFFICERS OF THE DEPARTMENT

1. The authority for part 2 continues to read as follows:

Authority: 7 U.S.C. 6912(a)(1); 5 U.S.C. 301; Reorganization Plan No. 2 of 1953, 3 CFR 1949-1953 Comp., p. 1024.

Subpart A—General

2. Revise § 2.4 to read as follows:

§ 2.4 General officers.

The work of the Department is under the supervision and control of the Secretary who is assisted by the following general officers: The Deputy Secretary, the Under Secretary for Farm and Foreign Agricultural Services; the Under Secretary for Rural Development; the Under Secretary for Food Safety; the Under Secretary for Food, Nutrition, and Consumer Services; the Under Secretary for Natural Resources and Environment; the Under Secretary for Research, Education, and Economics; the Under Secretary for Marketing and Regulatory Programs; the Assistant Secretary for Congressional Relations; the Assistant Secretary for Administration; the Assistant Secretary for Civil Rights; the General Counsel; the Inspector General; the Chief Financial Officer; the Chief Information Officer; the Judicial Officer; the Director, Office of Budget and Program Analysis; the Chief Economist; the Director, National Appeals Division; and the Director of Communications.

3. Revise § 2.5 to read as follows:

§ 2.5 Order in which officers of the Department shall act as Secretary.

(a) Pursuant to Executive Order 13542, “Providing an Order of Succession Within the Department of Agriculture” (75 FR 27921, May 18, 2010), during any period in which both the Secretary and the Deputy Secretary have died, resigned, or are otherwise unable to perform the functions and duties of the office of Secretary, the following officials designated in paragraphs (a)(1) through (a)(16) of this section shall act as Secretary, in the order in which they are listed, until such time as the Secretary or Deputy Secretary is able to perform the functions and duties of that office. Each official shall act only in the event of the death, resignation, or inability to perform the functions and duties of Secretary of the immediately preceding official:

(1) Assistant Secretary of Agriculture for Administration.

(2) Under Secretary of Agriculture for Marketing and Regulatory Programs.

(3) Under Secretary of Agriculture for Food, Nutrition, and Consumer Services.

(4) Under Secretary of Agriculture for Food Safety.

(5) Under Secretary of Agriculture for Natural Resources and Environment.

(6) Under Secretary of Agriculture for Farm and Foreign Agricultural Services.

(7) Under Secretary of Agriculture for Rural Development.

(8) Under Secretary of Agriculture for Research, Education, and Economics.

(9) General Counsel of the Department of Agriculture.

(10) Chief of Staff, Office of the Secretary.

(11) Director, Kansas City Commodity Office, Farm Service Agency.

(12) State Executive Directors of the Farm Service Agency for the States of California, Iowa, and Kansas, in order of seniority fixed by length of unbroken service as State Executive Director of that State.

(13) Regional Administrators of the Food and Nutrition Service for the Mountain Plains Regional Office (Denver, Colorado), Midwest Regional Office (Chicago, Illinois), and Western Regional Office (San Francisco, California), in order of seniority fixed by length of unbroken service as Regional Administrator of that Regional Office.

(14) Chief Financial Officer of the Department of Agriculture.

(15) Assistant Secretary of Agriculture for Civil Rights.

(16) Assistant Secretary of Agriculture for Congressional Relations.

(b) If any two or more individuals designated in paragraphs (a)(12) and (a)(13) of this section were sworn in to, or commenced service in, their respective offices on the same day, precedence shall be determined by the alphabetical order of the State in which the individual serves.

(c) No individual who is serving in an office listed in paragraphs (a)(1) through (a)(16) of this section in an acting capacity shall, by virtue of so serving, act as Secretary pursuant to this section.

(d) No individual who is serving in an office listed in paragraphs (a)(1) through (a)(16) of this section shall act as Secretary unless that individual is otherwise eligible to so serve under the Federal Vacancies Reform Act of 1998 (5 U.S.C. 3345, et seq.).

(e) Notwithstanding the provisions of this section and Executive Order 13542, the President retains discretion, to the extent permitted by law, to depart from the order of succession in paragraph (a) of this section in designating an acting Secretary.

Subpart C—Delegations of Authority to the Deputy Secretary, the Under Secretaries, and Assistant Secretaries for Congressional Relations and Administration

4. The heading of subpart C is revised to read as set forth above.

5. Amend § 2.16 by revising paragraph (a)(1)(xxxiii) to read as follows:

§ 2.16 Under Secretary for Farm and Foreign Agricultural Services.

(a) * * *

(1) * * *

(xxxiii) In coordination with the Assistant Secretary for Administration, issue receipts under section 2501A(e) of the Food, Agriculture, Conservation, and Trade Act of 1990 (7 U.S.C. 2279-1(e)).

* * * * *

6. Amend § 2.17 as follows:

a. Revise paragraphs (a)(20)(xi), (a)(21)(xxv), and (a)(22)(viii); and

b. Remove and reserve paragraph (a)(22)(iii), to read as follows:

§ 2.17 Under Secretary for Rural Development.

(a) * * *

(20) * * *

(xi) In coordination with the Assistant Secretary for Administration, issue receipts under section 2501A(e) of the Food, Agriculture, Conservation, and Trade Act of 1990 (7 U.S.C. 2279-1(e)).

(21) * * *

(xxv) In coordination with the Assistant Secretary for Administration, issue receipts under section 2501A(e) of the Food, Agriculture, Conservation, and Trade Act of 1990 (7 U.S.C. 2279-1(e)).

(22) * * *

(iii) [Reserved]

* * * * *

(viii) In coordination with the Assistant Secretary for Administration, issue receipts under section 2501A(e) of the Food, Agriculture, Conservation, and Trade Act of 1990 (7 U.S.C. 2279-1(e)).

* * * * *

7. Amend § 2.20 by revising paragraph (a)(3)(xxii) to read as follows:

§ 2.20 Under Secretary for Natural Resources and Environment.

(a) * * *

(3) * * *

(xxii) In coordination with the Assistant Secretary for Administration, issue receipts under section 2501A(e) of the Food, Agriculture, Conservation, and Trade Act of 1990 (7 U.S.C. 2279-1(e)).

* * * * *

8. Amend § 2.21 by removing and reserving paragraphs (a)(1)(xxxi) and (a)(1)(xcv) to read as follows:

§ 2.21 Under Secretary for Research, Education, and Economics.

(a) * * *

(1) * * *

(xxxi) [Reserved]

* * * * *

(xcv) [Reserved]

* * * * *

9. Revise § 2.24 to read as follows:

§ 2.24 Assistant Secretary for Administration.

(a) The following delegations of authority are made by the Secretary of Agriculture to the Assistant Secretary for Administration:

(1) Related to civil rights.

(i) Provide overall leadership, coordination, and direction for the Department's programs of civil rights, including program delivery, compliance, and equal employment opportunity, with emphasis on the following:

(A) Actions to enforce Title VI of the Civil Rights Act of 1964, 42 U.S.C. 2000d, prohibiting discrimination in federally assisted programs.

(B) Actions to enforce Title VII of the Civil Rights Act of 1964, as amended, 42 U.S.C. 2000e, prohibiting discrimination in Federal employment.

(C) Actions to enforce Title IX of the Education Amendments of 1972, 20 U.S.C. 1681, et seq., prohibiting discrimination on the basis of sex in USDA education programs and activities funded by the Department.

(D) Actions to enforce the Age Discrimination Act of 1975, 42 U.S.C. 6102, prohibiting discrimination on the basis of age in USDA programs and activities funded by the Department.

(E) Actions to enforce section 504 of the Rehabilitation Act of 1973, as amended, 29 U.S.C. 794, prohibiting discrimination against individuals with disabilities in USDA programs and activities funded or conducted by the Department.

(F) Actions to enforce related Executive Orders, Congressional mandates, and other laws, rules, and regulations, as appropriate.

(ii) Evaluate Departmental agency programs, activities, and impact statements for civil rights concerns.

(iii) Analyze and evaluate program participation data and equal employment opportunity data.

(iv) Provide leadership and coordinate Departmentwide programs of public notification regarding the availability of USDA programs on a nondiscriminatory basis.

(v) Coordinate with the Department of Justice on matters relating to title VI of the Civil Rights Act of 1964 (42 U.S.C. 2000d), title IX of the Education Amendments of 1972 (20 U.S.C. 1681, et seq.), and section 504 of the Rehabilitation Act of 1973, as amended (29 U.S.C. 794), except those matters in litigation, including administrative enforcement actions, which shall be coordinated by the Office of the General Counsel.

(vi) Coordinate with the Department of Health and Human Services on matters relating to the Age Discrimination Act of 1975, 42 U.S.C. 6102, except those matters in litigation, including administrative enforcement actions, which shall be coordinated by the Office of the General Counsel.

(vii) Order proceedings and hearings in the Department pursuant to §§ 15.9(e) and 15.86 of this title which concern consolidated or joint hearings within the Department or with other Federal departments and agencies.

(viii) Order proceedings and hearings in the Department pursuant to § 15.8 of this title after the program agency has advised the applicant or recipient of his or her failure to comply and has determined that compliance cannot be secured by voluntary means.

(ix) Issue orders to give a notice of hearing or the opportunity to request a hearing pursuant to part 15 of this title; arrange for the designation of an Administrative Law Judge to preside over any such hearing; and determine whether the Administrative Law Judge so designated will make an initial decision or certify the record to the Secretary of Agriculture with his or her recommended findings and proposed action.

(x) Authorize the taking of action pursuant to § 15.8(a) of this title relating to compliance by “other means authorized by law.”

(xi) Make determinations required by § 15.8(d) of this title that compliance cannot be secured by voluntary means, and then take action, as appropriate.

(xii) Make determinations that program complaint investigations performed under § 15.6 of this title establish a proper basis for findings of discrimination, and that actions taken to correct such findings are adequate.

(xiii) Investigate (or make determinations that program complaint investigations establish a proper basis for final determinations), make final determinations on both the merits and required corrective action, and, where applicable, make recommendations to the Secretary that relief be granted under 7 U.S.C. 6998(d) notwithstanding the finality of National Appeals Division decisions, as to complaints filed under parts 15a, 15b, and 15d of this title.

(xiv) Conduct civil rights investigations and compliance reviews Departmentwide.

(xv) Develop regulations, plans, and procedures necessary to carry out the Department's civil rights programs, including the development, implementation, and coordination of Action Plans.

(xvi) Related to Equal Employment Opportunity (EEO). Designate the Department's Director of Equal Employment Opportunity with authority:

(A) To perform the functions and responsibilities of that position under 29 CFR part 1614, including the authority:

(1) To make changes in programs and procedures designed to eliminate discriminatory practices and improve the Department's EEO program.

(2) To provide EEO services for managers and employees.

(3) To make final agency decisions on EEO complaints by Department employees or applicants for employment and order such corrective measures in such complaints as may be considered necessary, including the recommendation for such disciplinary action as is warranted when an employee has been found to have engaged in a discriminatory practice.

(B) Administer the Department's EEO program.

(C) Oversee and manage the EEO counseling function for the Department.

(D) Process formal EEO complaints by employees or applicants for employment.

(E) Investigate Department EEO complaints and make final decisions on EEO complaints, except in those cases where the Assistant Secretary for Administration (or a person in the immediate office of the Assistant Secretary for Administration) or the Assistant Secretary for Civil Rights (or a person directly supervised by the Assistant Secretary for Civil Rights) has participated in the events that gave rise to the matter.

(F) Order such corrective measures in EEO complaints as may be considered necessary, including the recommendation for such disciplinary action as is warranted when an employee has been found to have engaged in a discriminatory practice.

(G) Provide liaison on EEO matters concerning complaints and appeals with the Department agencies and Department employees.

(H) Conduct EEO evaluations and develop policy regarding EEO programs.

(I) Provide liaison on EEO programs and activities with the Equal Employment Opportunity Commission and the Office of Personnel Management.

(xvii) Administer the discrimination appeals and complaints program for the Department, including all formal individual or group appeals, where the system provides for an avenue of redress to the Department level, Equal Employment Opportunity Commission, or other outside authority.

(xviii) Make final determinations, or enter into settlement agreements, on discrimination complaints in federally conducted programs subject to the Equal Credit Opportunity Act. This delegation includes the authority to make compensatory damage awards whether pursuant to a final determination or in a settlement agreement under the authority of the Equal Credit Opportunity Act and the authority to obligate agency funds, including Commodity Credit Corporation and Federal Crop Insurance Corporation funds to satisfy such an award.

(xix) Make final determinations in proceedings under part 15f of this title where review of an administrative law judge decision is undertaken.

(xx) Provide civil rights and equal employment opportunity support services, with authority to take actions required by law or regulation to perform such services for:

(A) The Secretary of Agriculture.

(B) The general officers of the Department.

(C) The offices and agencies reporting to the Assistant Secretary for Administration.

(D) Any other offices or agencies of the Department as may be agreed.

(xxi) Redelegate, as appropriate, any authority delegated under paragraph (a)(1) to general officers of the Department and heads of Departmental agencies.

(2) Related to information technology and information resources.

(i) [Reserved]

(ii) Oversee all information technology and information resource management activities relating to the programs and operations of the Department and component agencies. This oversight includes approving information technology investments, monitoring and evaluating the performance of those investments and information resource management activities, approval of all architectures and components thereto and determining whether to continue, modify, or terminate an information technology program or project.

(iii) Provide advice and other assistance to the Secretary and other senior management personnel to ensure that information technology is acquired and managed for the Department consistent with chapter 35 of title 44, United States Code (Coordination of Federal Information Policy).

(iv) Develop, implement, and maintain a sound and integrated Department-wide information technology architecture.

(v) Promote the effective and efficient design and operation of all major information resources management processes for the Department, including improvements to work processes of the Department.

(vi) Approve the acquisition or procurement of information technology resources by, or on behalf of, any Department agency or office.

(vii) Collaborate with Department procurement personnel with respect to information technology acquisition strategy and policy.

(viii) Designate the Major Information Technology Systems Executive in USDA to integrate and unify the management process for the Department's major information technology system acquisitions and to monitor implementation of the policies and practices set forth in Office of Management and Budget (OMB) Circular No. A-109, Major Systems Acquisitions, for information technology. This includes the authority to:

(A) Ensure that OMB Circular No. A-109 is effectively implemented for information technology systems in the Department and that the management objectives of the Circular are realized.

(B) Review the program management of each major information technology system acquisition.

(C) Approve the appointment of the program manager for each major information technology systems acquisition.

(D) Designate any Departmental information technology acquisition as a major system acquisition under OMB Circular No. A-109.

(ix) On an annual basis:

(A) Assess Department-wide personnel requirements regarding knowledge and skill in information resources management, and the adequacy of such requirements, to achieve the performance goals established for information resources management.

(B) Develop strategies and specific plans for hiring, training, and professional development at the executive and management level to meet personnel information technology personnel requirements.

(C) Report to the Secretary on progress made in improving information resources management capability.

(x) Designate the senior official to carry out the responsibilities of the Department under chapter 35 of title 44, United States Code (Coordination of Federal Information Policy), including:

(A) Ensure that the information policies, principles, standards, guidelines, rules and regulations prescribed by OMB are appropriately implemented within the Department.

(B) Review proposed Department reporting and record keeping requirements, including those contained in rules and regulations, to ensure that they impose the minimum burden upon the public and have practical utility for the Department.

(C) Develop and implement procedures for assessing the burden to the public and costs to the Department of information requirements contained in proposed legislation affecting Department programs.

(D) Assist OMB in the performance of its functions assigned under the E-Government Act of 2002 (Pub. L. 107-347), including review of Department and Agency activities for compliance.

(E) Assist OMB in the performance of its functions assigned under the Paperwork Reduction Act of 1995 (44 U.S.C. 3501-3520), including review of Department and Agency activities for compliance.

(xi) The Assistant Secretary for Administration is also responsible for the following:

(A) Provide Department-wide guidance and direction in planning, developing, documenting, and managing applications software projects in accordance with Federal and Department information processing standards, procedures, and guidelines.

(B) Provide Department-wide guidance and direction in all aspects of information technology, including: Feasibility studies; economic analyses; systems design; acquisition of equipment, software, services, and timesharing arrangements; systems installation; systems performance and capacity evaluation; information technology investment governance; cybersecurity; and privacy. Monitor these activities for agencies' major systems development efforts to assure effective and economic use of resources and compatibility among systems of various agencies when required.

(C) Manage the Enterprise Data Centers, including setting rates to recover the cost of goods and services within approved policy and funding levels; and oversee the delivery of Enterprise Data Center goods and services, with authority to take actions required by law or regulation to perform such services for:

(1) The Secretary of Agriculture.

(2) The general officers of the Department.

(3) The offices and agencies reporting to the Assistant Secretary for Administration.

(4) Any other offices or agencies of the Department as may be agreed.

(D) Manage a comprehensive set of end user office automation services, including setting rates to recover the cost of goods and services within approved policy and funding levels; and oversee the delivery of goods and services associated with end user office automation services, with authority to take actions required by law or regulation to perform such services for any offices or agencies of the Department as may be agreed (except for the Office of the Secretary, the general officers of the Department, and the agencies and offices reporting to the Assistant Secretary for Administration, as specified in § 2.24(a)(11)(i)).

(E) Manage the Agricultural Security Operations Center to enable the Department to effectively monitor, detect, analyze, protect, report, and respond against known cyber vulnerabilities, attacks, and exploitations.

(F) Manage the Department's Certification and Accreditation process to ensure the Department and agencies have successfully conducted periodic risk assessments of its systems; grant the authority to operate for systems that have successfully completed the Certification and Accreditation process; and rescind or suspend the authority to operate for systems subject to repeated and/or significant security issues.

(G) Ensure that OMB Circular No. A-16, Coordination of Geographic Information and Related Spatial Data Activities, is effectively implemented in the Department and that the management objectives of the Circular are realized; and provide Department-wide guidance and direction in governing, developing, implementing, and maintaining a sound and integrated geospatial architecture.

(H) Review and evaluate information technology activities related to delegated functions to assure that they conform to all applicable Federal and Department information technology management policies, plans, standards, procedures, and guidelines.

(I) Design, develop, implement, and revise systems, processes, work methods, and techniques to improve the management and operational effectiveness of information resources.

(J) Administer the Departmental records, forms, reports and Directives Management Programs.

(K) Manage all aspects of the USDA Telecommunications Program including planning, development, acquisition, and use of equipment and systems for voice, data, and communications, excluding the actual procurement of data transmission equipment, software, maintenance, and related supplies.

(L) Manage Departmental telecommunications contracts.

(M) Provide technical advice throughout the Department.

(N) Implement a program for applying information resources management technology to improve productivity in the Department.

(O) Plan, develop, install, and operate computer-based systems for message exchange, scheduling, computer conferencing, televideo technologies, and other applications of office automation technology which can be commonly used by multiple Department agencies and offices.

(P) Represent the Department in contacts with the Government Accountability Office, the General Services Administration, OMB, the National Institute of Standards and Technology, and other organizations or agencies on matters related to delegated responsibilities.

(xii) Implement policies established pursuant to paragraphs (a)(2)(ii) through (a)(2)(xi) of this section by:

(A) Disposing of information technology that is acquired by a Department agency in violation of procedures or standards for the Department Information Systems Technology Architecture.

(B) Establishing information technology and information resources management performance standards for agency Chief Information Officers, information resources managers, and project managers to be used in the performance appraisal process.

(C) Approving the selection of agency Chief Information Officers and agency major information technology system project managers in accordance with OMB policies.

(D) Providing recommendations to Agency Heads for the removal or replacement of information technology project managers, when, in the opinion of the Assistant Secretary for Administration, applicable laws and policies are being violated, or, when the cost, schedule, or performance of an information technology project would indicate management deficiencies.

(E) Withdrawing agencies' authority to obligate funds on Information Technology programs or projects if the agency violates the Assistant Secretary for Administration policies, standards, or Department Information Systems Technology Architecture.

(F) Requiring agencies to validate and verify major information technology systems through the use of an existing contract for such purpose designated by the Assistant Secretary for Administration.

(G) Requiring approval by the Assistant Secretary for Administration of any proposed acquisition of information technology (whether through the award or modification of a procurement contract, a cooperative or other agreement with a non-Federal party, or an interagency agreement) to ensure technical conformance to the Department technical architecture.

(H) Providing guidance to USDA regarding implementation of Section 508 of the Rehabilitation Act, as well as on-going consultative assistance regarding information technology accessibility, and reviewing progress made toward achieving information technology accessibility for USDA employees and individuals with disabilities.

(xiii) Related to the Privacy Act. Appoint a Department Privacy Act Officer; oversee general officers and agency heads in the development and implementation of policies issued pursuant to the provisions of the Privacy Act, 5 U.S.C. 552a; and provide consultation and guidance regarding those policies.

(xiv) Related to the Freedom of Information Act. Designate the Chief Freedom of Information Act Officer for the Department; oversee general officers and agency heads in efficient and appropriate compliance with the provisions of the Freedom of Information Act (5 U.S.C. 552); monitor implementation of 5 U.S.C. 552 throughout the agency and keep the Secretary, the General Counsel, and the Attorney General informed regarding agency performance in its implementation; recommend to the Secretary necessary adjustments to agency practices, policies, personnel, and funding to improve implementation of 5 U.S.C. 552; review and report to the Attorney General, through the Secretary, as the Attorney General may direct; and facilitate public understanding of the purposes of the statutory exemptions contained in 5 U.S.C. 552.

(3) Related to financial systems and budget formulation and execution.

(i) [Reserved]

(ii) Oversee all financial management activities relating to the programs and operations of the Department and component agencies.

(iii) Develop and maintain an integrated accounting and financial system for the Department and component agencies, including financial reporting and internal controls, which—

(A) Complies with applicable accounting principles, standards, and requirements, and internal control standards;

(B) Complies with such policies and requirements as may be prescribed by the Director of the Office of Management and Budget (OMB);

(C) Complies with any other requirements applicable to such systems; and

(D) Provides for complete, reliable, consistent, and timely information which is prepared on a uniform basis and which is responsive to the financial information needs of Department management and for the development and reporting of cost information, the integration of accounting and budgeting information, and the systematic measurement of performance.

(iv) Make recommendations to the Secretary regarding the selection of the Deputy Chief Financial Officer of the Department, and selection of principal financial officers of component agencies of the Department.

(v) Direct, manage, and provide policy guidance and oversight of Department financial management personnel, activities, and operations, including:

(A) Prepare and annually revise a Departmental plan to—

(1) Implement the 5-year financial management plan prepared by the Director of OMB under 31 U.S.C. 3512(a)(3).

(2) Comply with the requirements established for agency financial statements under 31 U.S.C. 3515 and with the requirements for audits of Department financial statements established in 31 U.S.C. 3521(e) and (f).

(B) Develop Departmental financial management budgets, including the oversight and recommendation of approval of component agency financial management budgets.

(C) Recruit, select, and train personnel to carry out Departmental financial management functions.

(D) Approve and manage Departmental, and approve component agency, financial management systems design or enhancement projects.

(E) Implement and approve Departmental, and approve component agency, asset management systems, including systems for cash management, credit management, debt collection, and property and inventory management and control.

(vi) Prepare and transmit, by not later than 60 days after the submission of the audit report required by 31 U.S.C. 3521(f), an annual report to the Secretary and the Director of OMB, which shall include:

(A) A description and analysis of the status of financial management of the Department.

(B) The annual financial statements prepared under 31 U.S.C. 3521.

(C) The audit report transmitted to the Secretary under 31 U.S.C. 3521.

(D) A summary of the reports on internal accounting and administrative control systems submitted to the President and the Congress under the amendments made by the Federal Managers' Financial Integrity Act of 1982 (31 U.S.C. 1113, 3512).

(E) Other information the Secretary considers appropriate to inform fully the President and the Congress concerning the financial management of the Department.

(vii) Monitor the financial execution of the budget of the Department in relation to projected and actual expenditures, and prepare and submit to the Secretary timely performance reports.

(viii) Review, on a biennial basis, the fees, royalties, rent, and other charges imposed by the Department for services and things of value it produces, and make recommendations on revising those charges to reflect costs incurred by the Department in providing those services and things of value.

(ix) Access all records, reports, audits, reviews, documents, papers, recommendations, or other material that are the property of the Department or that are available to the Department, and that relate to programs and operations with respect to which the Chief Financial Officer has responsibilities, except that this grant allows no access greater than that permitted under any other law to records, reports, audits, reviews, documents, papers, recommendations, or other material of the Office of Inspector General.

(x) Request such information or assistance as may be necessary for carrying out the duties and responsibilities granted by the Chief Financial Officers Act of 1990 (Pub. L. 101-576), from any Federal, State, or local governmental entity.

(xi) To the extent and in such amounts as may be provided in advance by appropriations acts, enter into contracts and other arrangements with public agencies and with private persons for the preparation of financial statements, studies, analyses, and other services, and make such payments as may be necessary to carry out the duties and prerogatives of the Chief Financial Officer.

(xii) Designate the Department's Comptroller of the Department Working Capital Fund.

(xiii) Establish Departmental policies, standards, techniques, and procedures applicable to all USDA agencies for the following areas:

(A) Development, maintenance, review and approval of all departmental, and review and approval of component agency, internal control, fiscal, financial management and accounting systems including the financial aspects of payment management and property systems.

(B) Selection, standardization, and simplification of program delivery processes utilizing grants, cooperative agreements and other forms of Federal assistance.

(C) Review and approval of Federal assistance, internal control, fiscal, accounting and financial management regulations and instructions proposed or issued by USDA agencies for conformity with Departmental requirements.

(D) Section 5301 of the Anti-Drug Abuse Act of 1988 (21 U.S.C. 862) as it relates to grants, loans, and licenses.

(xiv) Establish policies related to the Department Working Capital Fund.

(xv) Approve regulations, procedures and rates for goods and services financed through the Department Working Capital Fund which will impact the financial administration of the Fund.

(xvi) Exercise responsibility and authority for operating USDA's financial and subsidiary management systems and related administrative systems including: Departmentwide payroll and personnel information systems, statistics, administrative payments, billings and collections, and related reporting systems that are either requested by the agencies or required by the Department.

(xvii) Manage the National Finance Center (NFC).

(xviii) Provide management support services for the NFC, and by agreement with agency heads concerned, provide such services for other USDA tenants housed in the same facility. As used herein, such management support services shall include:

(A) Personnel services, as listed in § 2.24(a)(4)(x), and organizational support services, with authority to take actions required by law or regulation to perform such services.

(B) Procurement, property management, space management, communications, messenger, paperwork management, and related administrative services, with authority to take actions required by law or regulation to perform such services.

(xix) Exercise responsibility and authority for all matters related to the Department's accounting and financial operations including such activities as:

(A) Financial administration, including accounting and related activities.

(B) Reviewing financial aspects of agency operations and proposals.

(C) Furnishing consulting services to agencies to assist them in developing and maintaining accounting and financial management systems and internal controls, and for other purposes consistent with delegations in paragraph (a)(3)(xiii) of this section.

(D) Reviewing and monitoring agency implementation of Federal assistance policies.

(E) Reviewing and approving agencies' accounting systems documentation including related development plans, activities, and controls.

(F) Monitoring agencies' progress in developing and revising accounting and financial management systems and internal controls.

(G) Evaluating agencies' financial systems to determine the effectiveness of procedures employed, compliance with regulations, and the appropriateness of policies and practices.

(H) Promulgation of Department schedule of fees and charges for reproductions, furnishing of copies and making searches for official records pursuant to the Freedom of Information Act, 5 U.S.C. 552.

(I) Monitoring USDA implementation of section 5301 of the Anti-Drug Abuse Act of 1988 (21 U.S.C. 862) as it relates to grants, loans, and licenses.

(xx) Establish Department and approving component agency programs, policies, standards, systems, techniques and procedures to improve the management and operational efficiency and effectiveness of the USDA including:

(A) Increased use of operations research and management science in the areas of productivity and management.

(B) All activities financed through the Department Working Capital Fund.

(xxi) Develop Departmental policies, standards, techniques, and procedures for the conduct of reviews and analysis of the utilization of the resources of State and local governments, other Federal agencies and of the private sector in domestic program operations.

(xxii) Represent the Department in contacts with OMB, General Services Administration, GAO, Department of the Treasury, Office of Personnel Management, Department of Health and Human Services, Department of Labor, Environmental Protection Agency, Department of Commerce, Congress of the United States, State and local governments, universities, and other public and private sector individuals, organizations or agencies on matters related to assigned responsibilities.

(xxiii) Establish policies related to travel by USDA employees.

(xxiv) Exercise responsibility for coordinating and overseeing the implementation of the Government Performance and Results Act of 1993, Public Law 103-62, at the Department.

(xxv) Provide budget, accounting, fiscal and related financial management services, with authority to take action required by law or regulation to provide such services for Working Capital Funds and general appropriated and trust funds for:

(A) The Secretary of Agriculture.

(B) The general officers of the Department, except the Inspector General.

(C) The offices and agencies reporting to the Assistant Secretary for Administration.

(D) Any other offices and agencies of the Department as may be agreed.

(xxvi) Develop, promulgate, and coordinate Department-wide policy concerning nonprocurement debarment and suspension.

(xxvii) Prepare and submit to Congress reports on conferences sponsored or held by the Department or attended by employees of the Department (7 U.S.C. 2255b).

(xxviii) Related to budget formulation and program analysis.

(A) Designate the Department's Budget Officer and exercise general responsibility and authority for all matters related to the Department's budgeting affairs including:

(1) Resource administration, including all phases of the acquisition, and distribution of funds and staff years.

(2) Legislative and regulatory reporting and related activities.

(B) Provide staff assistance for the Secretary, general officers, and other Department and agency officials.

(C) Formulate and promulgate Departmental budgetary, legislative and regulatory policies and procedures.

(D) Represent the Department in contacts with OMB, the GAO, the Department of the Treasury, Congressional Committees on Appropriations, and other organizations and agencies on matters related to his or her responsibility.

(E) Coordinate and/or conduct policy and program analyses on agency operations and proposals to assist the Secretary, general officers and other Department and agency officials in formulating and implementing USDA policies and programs.

(F) Review and analyze legislation, regulations, and policy options to determine their impact on USDA programs and policy objectives and on the Department's budget.

(G) Monitor ongoing studies with significant program or policy implications.

(4) Related to human resources management.

(i) Formulate and issue Department policy, standards, rules, and regulations relating to human resources management.

(ii) Provide human resources management procedural guidance and operational instructions.

(iii) Set standards for human resources data systems.

(iv) Inspect and evaluate human resources management operations and issue instructions or take direct action to insure conformity with appropriate laws, Executive Orders, Office of Personnel Management (OPM) rules and regulations, and other appropriate rules and regulations.

(v) Exercise final authority in all human resources matters, including individual cases, that involve the jurisdiction of more than one General Officer or agency head, or otherwise as deemed appropriate.

(vi) Receive, review, and recommend action on all requests for the Secretary's approval in human resources matters.

(vii) Authorize and make final decisions on adverse actions, except in those cases where the Assistant Secretary for Administration has participated.

(viii) Represent the Department in human resources matters in all contacts outside the Department.

(ix) Exercise specific authorities in the following operational matters:

(A) Waive repayment of training expenses where an employee fails to fulfill service agreement.

(B) Establish or change standards and plans for awards to private citizens.

(C) Execute, change, extend, or renew:

(1) Labor-Management Agreements.

(2) Certifications of supervisory/managerial and non-labor union employee and professional organizations or associations.

(D) Represent the Department in contacts with the national offices of labor organizations in fulfilling the Department's national consultation obligations under 5 U.S.C. 7113.

(E) Change a position (with no material change in duties) from one pay system to another.

(F) Grant restoration rights, and release employees with administrative reemployment rights.

(G) Authorize any mass dismissals of employees in the Washington, DC, metropolitan area.

(H) Approve “normal line of promotion” cases in the excepted service where not in accordance with time-in-grade criteria.

(I) Make the final decision on all classification appeals filed with the Department of Agriculture.

(J) Authorize all employment actions (except nondisciplinary separations and LWOP) and classification actions for senior level and equivalent positions including Senior Executive Service positions and special authority professional and scientific positions responsible for carrying out research and development functions.

(K) Authorize all employment actions (except LWOP) for the following positions:

(1) Schedule C.

(2) Non-career Senior Executive Service or equivalent.

(3) Administrative Law Judge.

(L) Authorize and make final decisions on adverse actions for positions in GS-1—15 or equivalent.

(M) Authorize and make final decisions on adverse actions for positions in the career Senior Executive Service or equivalent.

(N) Approve the details of Department employees to the White House.

(O) Authorize adverse actions based in whole or in part on an allegation of violation of 5 U.S.C. chapter 73, subchapter III, for employees in the excepted service.

(P) Authorize long-term training in programs which require Departmentwide competition.

(Q) Initiate and take adverse action in cases involving a violation of the merit system.

(R) Any other human resources operational matter.

(x) As used in this section, the term human resources includes:

(A) Position management.

(B) Position classification.

(C) Employment.

(D) Pay administration.

(E) Automation of human resources data and systems.

(F) Hours of duty.

(G) Performance management.

(H) Promotions.

(I) Employee development.

(J) Incentive Programs.

(K) Leave.

(L) Retirement.

(M) Human resources program management accountability and evaluation.

(N) Social security.

(O) Life insurance.

(P) Health benefits.

(Q) Unemployment compensation.

(R) Labor management relations.

(S) Intramanagement consultation.

(T) [Reserved]

(U) Discipline.

(V) Appeals.

(W) Drug Testing Program.

(X) Worklife Program.

(Y) Transit Subsidy Program.

(Z) Alternative Dispute Resolution.

(xi) Maintain, review, and update Departmental delegations of authority.

(xii) Authorize organizational changes.

(xiii) Formulate and promulgate departmental organizational objectives and policies.

(xiv) Approve coverage and waiver of individual law enforcement and firefighter positions under the special retirement provisions of the Civil Service Retirement System and the Federal Employees Retirement System.

(xv) Provide for diversity and inclusion, as follows:

(A) Establish, direct, and provide policy and oversight for a Departmentwide Special Emphasis Program (SEP) including: Women, African Americans, Hispanics, Asian/Pacific Islanders, Native Americans, Disabled, and Gay/Lesbian/Bisexual/Transgender.

(B) Provide oversight and support for Departmental SEP recognition programs.

(C) Direct and oversee the Department-wide SEPM Council.

(D) Administer Federal Equal Opportunity Recruitment Program.

(xvi) Oversee and manage the Department's administrative grievance program.

(xvii) Make final decisions in those cases where an agency head has appealed the recommended decision of a grievance examiner.

(xviii) Administer the administrative appeals process related to the inclusion of positions in the testing designated position listing in the Department's Drug-Free Workplace Program and designate the final appeal officer for that Program.

(xix) Formulate and issue Department policy, standards, rules, and regulations relating to the Senior Scientific Research Service (7 U.S.C. 7657).

(xx) Related to conflict management.

(A) Designate the senior official to serve as the Department Dispute Resolution Specialist under the Administrative Dispute Resolution Act of 1996, 5 U.S.C. 571, et seq., and provide leadership, direction and coordination for the Department's conflict prevention and resolution activities.

(B) Issue Departmental regulations, policies, and procedures relating to the use of Alternative Dispute Resolution (ADR) to resolve employment complaints and grievances, workplace disputes, Departmental program disputes, and contract and procurement disputes.

(C) Provide ADR services for:

(1) The Secretary of Agriculture.

(2) The general officers of the Department.

(3) The offices and agencies reporting to the Assistant Secretary for Administration.

(4) Any other office or agency of the Department as may be agreed.

(D) Develop and issue standards for mediators and other ADR neutrals utilized by the Department.

(E) Coordinate ADR activities throughout the Department.

(F) Monitor agency ADR programs and report at least annually to the Secretary on the Department's ADR activities.

(xxi) Redelegate, as appropriate, any authority delegated under paragraphs (a)(4)(i) through (a)(4)(xx) to general officers of the Department and heads of Departmental agencies.

(xxii) Related to ethics. Provide administrative supervision for the Office of Ethics.

(5) Related to small and disadvantaged business utilization.

(i) In compliance with Public Law 95-507, the Assistant Secretary for Administration is designated as the Department's Director for Small and Disadvantaged Business Utilization. The Director of Small and Disadvantaged Business Utilization has specific responsibilities under the Small Business Act, 15 U.S.C. 644(k). These duties include being responsible for the following:

(A) Administer the Department's small and disadvantaged business activities related to procurement contracts, minority bank deposits, and grants and loan activities affecting small and minority businesses including women-owned business, and the small business, small minority business and small women-owned business subcontracting programs.

(B) Provide Departmentwide liaison and coordination of activities related to small, small disadvantaged, and women-owned businesses with the Small Business Administration and others in public and private sector.

(C) Develop policies and procedures required by the applicable provision of the Small Business Act, as amended, to include the establishment of goals.

(D) Implement and administer programs described under sections 8 and 15 of the Small Business Act, as amended (15 U.S.C. 637 and 644).

(E) In compliance with the Veterans Benefits Act of 2003 (Pub. L. 108-183) amending the Small Business Act, implement and administer procurement programs for small business concerns owned and controlled by service-disabled veterans.

(ii) In compliance with the Javits-Wagner-O'Day Act (41 U.S.C. 46 et seq.), implement and administer the Department's AbilityOne program for purchases from qualified nonprofit agencies for the blind or for the severely disabled.

(6) Related to procurement and property management.

(i) Exercise full Departmentwide contracting and procurement authority.

(ii) Promulgate policies, standards, techniques, and procedures, and represent the Department, in the following:

(A) Acquisition, including, but not limited to, the procurement of supplies, services, equipment, and construction.

(B) Socioeconomic programs relating to contracting.

(C) Selection, standardization, and simplification of program delivery processes utilizing contracts.

(D) Acquisition, leasing, utilization, value analysis, construction, maintenance, and disposition of real and personal property, including control of space assignments.

(E) Motor vehicle and aircraft fleet and other vehicular transportation.

(F) Transportation of things (traffic management).

(G) Prevention, control, and abatement of pollution with respect to Federal facilities and activities under the control of the Department (Executive Order 12088, “Federal Compliance With Pollution Control Standards,” 3 CFR, 1978 Comp., p. 243).

(H) Implementation of the Uniform Relocation Assistance and Real Property Acquisition Policies Act of 1970 (42 U.S.C. 4601, et seq.).

(I) Development and implementation of sustainable operations actions including establishing and achieving greenhouse gas emission reduction goals, reducing energy intensity, increasing renewable energy use, increasing water efficiency, reducing petroleum use and increasing alternative fuel use, increasing recycling and waste diversion, preventing pollution, reducing use of toxic chemicals, procuring sustainable products and services, achieving sustainable principles for new and existing buildings, promoting electronic stewardship, and continuing environmental management system use. Maintain liaison with the Office of the Federal Environmental Executive, the Council on Environmental Quality, the Office of Management and Budget (OMB), the Department of Energy, and other Government agencies in these matters.

(J) Implementation of a program for the Federal procurement of biobased products and of a voluntary “USDA Certified Biobased Product” labeling program (7 U.S.C. 8102).

(K) Entering into cooperative agreements to further research programs in the food and agricultural sciences, related to establishing and implementing Federal biobased procurement and voluntary biobased labeling programs (7 U.S.C. 3318).

(L) Implementation of the policies and procedures set forth in OMB Circular No. A-76, Performance of Commercial Activities.

(iii) Exercise the following special authorities:

(A) Designate the Departmental Debarring Officer to perform the functions of 48 CFR part 9, subpart 9.4 related to procurement activities, except for commodity acquisitions on behalf of the Commodity Credit Corporation (7 CFR part 1407); with authority to redelegate suspension and debarment authority for contracts awarded under the School Lunch and Surplus Removal Programs (42 U.S.C. 1755 and 7 U.S.C. 612c).

(B) Conduct liaison with the Office of the Federal Register (1 CFR part 16) including the making of required certifications pursuant to 1 CFR part 18.

(C) Maintain custody and permit appropriate use of the official seal of the Department.

(D) Establish policy for the use of the official flags of the Secretary and the Department.

(E) Coordinate collection and disposition of personal property of historical significance.

(F) Make information returns to the Internal Revenue Service as prescribed by 26 U.S.C. 6050M and by 26 CFR 1.6050M-1 and such other Treasury regulations, guidelines or procedures as may be issued by the Internal Revenue Service in accordance with 26 U.S.C. 6050M. This includes making such verifications or certifications as may be required by 26 CFR 1.6050M-1 and making the election allowed by 26 CFR 1.6050M-1(d)(5)(1).

(G) Promulgate regulations for the management of contracting and procurement for information technology and telecommunication equipment, software, services, maintenance and related supplies.

(H) Represent the Department in working with the Government Accountability Office (GAO), the General Services Administration, OMB, and other organizations or agencies on matters related to assigned responsibilities.

(iv) Serve as the Acquisition Executive in the Department to integrate and unify the management process for the Department's major system acquisitions and to monitor implementation of the policies and practices set forth in OMB Circular No. A-109, Major Systems Acquisitions. This includes the authority to:

(A) Ensure that OMB Circular No. A-109 is effectively implemented in the Department and that the management objectives of the Circular are realized.

(B) Review the program management of each major system acquisition.

(C) Designate the program manager for each major systems acquisition.

(D) Designate any Departmental acquisition as a major system acquisition under OMB Circular No. A-109.

(v) Pursuant to Executive Order 12931, “Federal Procurement Reform,” 3 CFR, 1994 Comp., p. 925, and sections 16, 22, and 37 of the Office of Federal Procurement Policy Act, as amended, 41 U.S.C. 414, 418b, and 433, designate the Senior Procurement Executive for the Department and delegate responsibility for the following:

(A) Prescribing and publishing Departmental acquisition policies, advisories, regulations, and procedures.

(B) Taking any necessary actions consistent with policies, regulations, and procedures with respect to purchases, contracts, leases, agreements, and other transactions.

(C) Designating contracting officers.

(D) Establishing clear lines and limitations of contracting authority through written delegations of authority.

(E) Approving any Departmental and component agency procurement systems and processes.

(F) Managing and enhancing career development of the Department's acquisition workforce.

(G) Participating in the development of Governmentwide procurement policies, regulations, and standards, and determining specific areas where Governmentwide performance standards should be established and applied.

(H) Developing unique Departmental standards as required.

(I) Overseeing the development of procurement goals, guidelines, and innovation.

(J) Measuring and evaluating procurement office performance against stated goals.

(K) Advising the Secretary whether goals are being achieved.

(L) Prescribing standards for agency Procurement Executives.

(M) Redelegating, suspending, or revoking, as appropriate, the authority in paragraph (a)(6)(v)(A) of this section to agency Procurement Executives or other qualified agency officials with no power of further redelegation.

(N) Redelegating, suspending, or revoking, as appropriate, the authorities in paragraphs (a)(6)(v)(B), (C), (D), (F), and (G) of this section to agency Procurement Executives or other qualified agency officials with the power of further redelegation.

(vi) Represent the Department in establishing standards for acquisition transactions within the electronic data interchange environment.

(vii) Designate the Departmental Task Order Ombudsman pursuant to 41 U.S.C. 253j.

(viii) Designate the Departmental Remedy Coordination Official pursuant to 41 U.S.C. 255 to determine whether payment to any contractor should be reduced or suspended based on substantial evidence that the request of the contractor for advance, partial, or progress payment is based on fraud.

(ix) Review and approve exemptions for USDA contracts, subcontracts, grants, agreements, and loans from the requirements of the Clean Air Act, as amended (42 U.S.C. 7401, et seq.), the Federal Water Pollution Control Act, as amended (33 U.S.C. 1251, et seq.), and Executive Order 11738, “Providing for Administration of the Clean Air Act and the Federal Water Pollution Control Act With Respect to Federal Contracts, Grants, or Loans,” 3 CFR, 1971-1975 Comp., p. 799, when he or she determines that the paramount interest of the United States so requires as provided in these acts and Executive Order and the regulations of the EPA (2 CFR 1532.1140).

(x) Transfer excess research equipment to eligible educational institutions or certain non-profit organizations for the conduct of technical and scientific education and research activities under section 11(i) of the Stevenson-Wydler Technology Innovation Act of 1980 (15 U.S.C. 3710(i)) (7 CFR part 2812).

(xi) Promulgate policy and obtain and furnish Federal excess personal property in accordance with section 923 of Public Law 104-127 (7 U.S.C. 2206a), to support research, educational, technical and scientific activities or for related programs, to:

(A) Any 1994 Institutions (as defined in section 532 of the Equity in Educational Land-Grant Status Act of 1994 (Pub. L. 103-382; 7 U.S.C. 301 note)).

(B) Any Institutions eligible to receive funds under the Act of August 30, 1890 (7 U.S.C. 321, et seq.) including Tuskegee University.

(C) Any Hispanic-serving Institutions (as defined in sections 316(b) of the Higher Education Act of 1965 (20 U.S.C. 1059c(b)).

(xii) Make available to organizations excess or surplus computers or other technical equipment of the Department for the purpose of distribution to cities, towns, or local government entities in rural areas (7 U.S.C. 2206b).

(xiii) Issue regulations and directives to implement or supplement the Federal Acquisition Regulations (48 CFR Chapters 1 and 4).

(xiv) Issue regulations and directives to implement or supplement the Federal Property Management Regulations (41 CFR chapter 101) and the Federal Management Regulation (41 CFR chapter 102).

(xv) Serve as USDA Senior Sustainability Officer under Executive Order 13514, “Federal Leadership in Environmental, Energy, and Economic Performance” (74 FR 52117, Oct. 8, 2009) responsible for developing and achieving greenhouse gas emission reduction targets, developing and implementing a Strategic Sustainability Performance Plan, achieving sustainable practice goals in Executive Order 13423, “Strengthening Federal Environmental, Energy, and Transportation Management,” 3 CFR, 2007 Comp., p. 191, and reporting USDA's progress to OMB and the Council on Environmental Quality.

(xvi) Pursuant to the Office of Federal Procurement Policy Act (Act), as amended (41 U.S.C. 401, et seq.), designate the Department's Advocate for Competition with the responsibility for section 20 of the Act (41 U.S.C. 418), including:

(A) Reviewing the procurement activities of the Department.

(B) Developing new initiatives to increase full and open competition.

(C) Developing goals and plans and recommending actions to increase competition.

(D) Challenging conditions unnecessarily restricting competition in the acquisition of supplies and services.

(E) Promoting the acquisition of commercial items.

(F) Designating an Advocate for Competition for each procuring activity within the Department.

(xvii) Related to compliance with environmental laws and sustainable operating requirements.

(A) Serve as Chair of the USDA Sustainable Operations Council.

(B) Represent USDA in consulting or working with the EPA, the Council on Environmental Quality, the Domestic Policy Council, and others to develop policies relating to hazardous materials management and Federal facilities compliance with applicable pollution control laws.

(C) Monitor, review, evaluate, and oversee hazardous materials management program activities and compliance Department-wide.

(D) Monitor, review, evaluate, and oversee USDA agency expenditures for hazardous materials management program accomplishments.

(E) Represent USDA on the National Response Team and exercise responsibility for USDA response efforts for hazardous substance releases and oil spills pursuant to the Comprehensive Environmental Response, Compensation, and Liability Act of 1980, as amended (42 U.S.C. 9601, et seq.); the Clean Water Act, as amended (33 U.S.C. 1251, et seq.); Oil Pollution Act, as amended (33 U.S.C. 2701, et seq.); Executive Order 12580, “Superfund Implementation,” 3 CFR, 1987 Comp., p. 193; Executive Order 12777, “Implementation of section 311 of the Federal Water Pollution Control Act of October 18, 1972, as amended, and the Oil Pollution Act of 1990,” 3 CFR, 1991 Comp., p. 351, and the National Oil and Hazardous Substances Contingency Plan, 40 CFR Part 300.

(F) Approve disbursements from the New World Mine Response and Restoration Account, approve the New World Mine Response and Restoration Plan, and make quarterly reports to Congress under Sections 502(d) and (f) of Title V of the Department of the Interior and Related Agencies Appropriations Act of 1998, Public Law 105-83.

(G) Ensure that the Hazardous Materials Management Program Department-wide is accomplished with regard to, and in compliance with, Executive Order 12898, “Federal Actions to Address Environmental Justice in Minority Populations and Low-Income Populations,” 3 CFR, 1994 Comp. p. 859.

(H) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, “Superfund Implementation,” 3 CFR, 1987 Comp., p. 193, as amended by Executive Order 13016, “Amendment to Executive Order No. 12580,” 3 CFR, 1996 Comp., p. 214.

(I) Represent USDA on the EPA Brownfields Federal Partnership and coordinate USDA support for Brownfields redevelopment and establish policy and guidance for the implementation of the June 2003 amendment to Executive Order 12580, “Superfund Implementation,” 3 CFR, 1987 Comp., p. 193 (Executive Order 13308, “Further Amendment to Executive Order 12580, As Amended, Superfund Implementation,” 3 CFR, 2003 Comp., p. 239).

(xviii) Related to occupational safety and health.

(A) Establish Departmentwide safety and health policy and provide leadership in the development, coordination, and implementation of related standards, techniques, and procedures, and represent the Department in complying with laws, Executive Orders and other policy and procedural issuances related to occupational safety and health and workers' compensation programs within the Department.

(B) Represent the Department in all rulemaking, advisory, or legislative capacities on any groups, committees, or Governmentwide activities that affect the Department's Occupational Safety and Health Management Program; and serve as the USDA Designated Safety and Health Official.

(C) Determine and provide Departmentwide technical services and regional staff support for the safety and health programs.

(D) Administer the computerized management information systems for the collection, processing and dissemination of data related to the Department's occupational safety and health programs.

(E) Administer the Department's Occupational Health and Preventive Medicine Program, as well as design and operate employee assistance and workers' compensation activities.

(F) Provide education and training on a Departmentwide basis for safety and health-related issues and develop resource and operational manuals.

(7) Related to advocacy and outreach.

(i) Ensure that small farms and ranches, beginning farmers or ranchers, and socially disadvantaged farmers or ranchers have access to, and equitable participation in, programs and services of the Department pursuant to section 226B(c) of the Department of Agriculture Reorganization Act of 1994 (7 U.S.C. 6934(c)).

(ii) Oversee the Advisory Committee for Beginning Farmers and Ranchers.

(iii) Oversee the operations of the Office of Small Farms Coordination.

(iv) Administer section 2501 of the Food, Agriculture, Conservation, and Trade Act of 1990 (7 U.S.C. 2279), except for authorities related to the Census of Agriculture and economic studies in subsection (h) of that section.

(v) Establish and oversee the Minority Farmer Advisory Committee pursuant to section 14008 of FCEA (7 U.S.C. 2279 note).

(vi) Administer the low-income migrant and seasonal farmworker grants program under section 2281 of the Food, Agriculture, Conservation, and Trade Act of 1990 (42 U.S.C. 5177a).

(vii) Consult with appropriate entities regarding integration of farmworker interests into Department programs, including assisting farmworkers in becoming agricultural producers or landowners, and research, program improvements, and agricultural education opportunities for low-income and migrant seasonal farmworkers.

(viii) Administer the grants program under section 14204 of FCEA (7 U.S.C. 2008q-1) to improve the supply, stability, safety, and training of the agricultural labor force.

(ix) Administer and coordinate a USDA outreach program in collaboration with USDA agencies.

(x) Administer section 2501A of the Food, Agriculture, Conservation, and Trade Act of 1990 (7 U.S.C. 2279-1), including the authority to coordinate Department policy for the issuance of receipts under subsection (e) of that section.

(xi) Provide strategic planning and performance measurement, coordinate outreach activities, monitor goals and objectives, and evaluate programs, of Department programs and activities involving small farms or ranches and beginning or socially disadvantaged farmers or ranchers.

(xii) Administer the USDA/1994 Land Grant Institutions (Tribal Colleges) Programs.

(xiii) Administer the USDA/1890 Liaison Officer Program.

(xiv) Administer the Hispanic Serving Institutions National Program.

(8) Related to homeland security, personnel and document security, and emergency coordination.

(i) Provide administrative supervision to the unit that grants, denies, or revokes security clearances for USDA employees and contractors.

(ii) Administer the Department Emergency Preparedness Program. This includes:

(A) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management,” 3 CFR, 1979 Comp., p. 412, 12919, “National Defense Industrial Resources Preparedness,” 3 CFR, 1994 Comp., p. 901, and 12656, “Assignment of Emergency Preparedness Responsibilities,” 3 CFR, 1988 Comp., p. 585; or any successor to these Executive Orders, to ensure that the Department has sufficient capabilities to respond to any occurrence, including natural disaster, military attack, technological emergency, or any all hazards incident.

(B) Manage the Department Emergency Operations Center at Headquarters and the Secretary's alternative facilities; provide senior staff with international, national, and regional situational awareness reports; and provide and maintain current information systems technology and National Security Systems to support USDA executive crisis management capability.

(C) Provide facilities and equipment to facilitate inter-agency coordination during emergencies.

(D) Activate the USDA incident management system in accordance with the National Response Framework and the National Incident Management System in the event of a major incident; and provide oversight and coordination of the Department's Emergency Support Functions as outlined in the National Response Framework.

(E) Develop and promulgate policies for the Department regarding emergency preparedness and national security, including matters relating to anti-terrorism and agriculture-related emergency preparedness planning both national and international, and guidance to USDA State and County Emergency Boards.

(F) Establish and provide oversight of a Department-wide training program for the National Incident Management System to include Incident Command System, National Response Framework, Continuity programs, and Critical Infrastructure Protection program.

(G) Provide representation and liaison for the Department in contacts with other Federal entities and organizations, including the National Security Council, Homeland Security Council, Office of Management and Budget, Department of Homeland Security, Federal Emergency Management Agency, Office of The Director of National Intelligence, and Department of Defense concerning matters of a national security, natural disaster, other emergencies, and agriculture/food-related international civil emergency planning and related activities.

(H) Act as the primary USDA representative for anti-terrorism activities.

(I) Develop and submit a coordinated budget request for homeland security requirements.

(J) Provide guidance and direction regarding radiological emergency preparedness programs and the implementation of the National Response Framework's Nuclear/Radiological Incident Annex to Departmental staff offices, mission areas, and agencies.

(K) Provide program leadership and coordination for USDA's radiological emergency preparedness requirements with respect to Emergency Management and Assistance (44 CFR parts 350-352).

(L) Represent USDA on the Federal Radiological Preparedness Coordinating Committee (FRPCC) and Regional Assistance Committees (RACs) and assist them in carrying out their functions.

(M) Support USDA in its management of the Department's emergency response program with respect to radiological emergency response activities.

(iii) Provide for the personal security to the Secretary and the Deputy Secretary.

(iv) Serve as the primary point of contact for Government Accountability Office (GAO) and Office of the Inspector General (OIG) audits of USDA homeland security activities.

(v) Coordinate interaction between Department agencies and private sector businesses and industries in emergency planning and public education under Department authorities delegated or assigned under the National Response Framework, National Infrastructure Protection Plan, Defense Production Act of 1950, 50 U.S.C. App. 2061, et seq., and Robert T. Stafford Disaster Relief and Emergency Assistance Act, 42 U.S.C. 5121, et seq.

(vi) Oversee the Department's ability to collect and disseminate information and prepare for an agricultural disease emergency, agroterrorist act, or other threat to agricultural biosecurity, and coordinate such activities among agencies and offices within the Department (7 U.S.C. 8912).

(vii) Administer a funded competitive grant program to support the development and expansion of advanced training programs in agricultural biosecurity planning and response for food science professionals and veterinarians; administer a funded competitive grant and low-interest loan assistance program to assist States in assessing agricultural disease response capability (7 U.S.C. 8913).

(viii) Promulgate Departmental policies, standards, techniques, and procedures; and represent the Department in maintaining the security of physical facilities and providing security guidance to the Food and Agricultural Sector nationwide.

(A) Lead and coordinate the development and maintenance of a mission critical facility inventory with agency involvement to ensure proper security countermeasures are implemented in the Department's most critical infrastructure.

(B) Provide guidance to USDA agencies in matters of physical security through use of physical security assessments and development of mitigation strategies.

(C) Provide guidance to USDA agencies and the Food and Agricultural Sector in matters of security through use of assessments and development of mitigation strategies.

(D) Represent and act as liaison for the Department in contacts with other Federal security entities and organizations, including the Interagency Security Committee and the Department of Homeland Security.

(E) Provide guidance and direction to ensure physical security and agriculture/food security are fully integrated in USDA's security preparations, which are reported to and coordinated with the White House.

(F) Provide assistance to the USDA agencies in preparation for and during a disaster to identify critical assets and possible alternate storage locations.

(G) Conduct physical security investigations and compliance reviews Department-wide.

(H) Review and provide coordinated technical physical security assessments for all new construction of laboratories, data centers, germplasm repositories, and other mission critical infrastructure during the design phase, and all leased facilities prior to contract award.

(I) Oversee and manage physical security aspects of the Common Identification Card (LincPass) Program to ensure National Institute of Standards and Technology (NIST) and General Services Administration (GSA) compliancy within the National Capital Region and the physical access to USDA facilities.

(J) Provide enterprise connectivity to agency physical access control systems that provide cost leveraging and provisioning/de-provisioning nationwide.

(ix) Provide oversight and coordination of the development and administration of the Department Continuity Program. This includes:

(A) Provide guidance and direction regarding continuity of operations to the Office of the Secretary, Departmental staff offices, mission areas, and agencies.

(B) Represent and act as liaison for the Department in contacts with other Federal entities and organizations concerning matters of assigned continuity program responsibilities.

(C) Oversee Department continuity of operations and emergency relocation facility planning, development, equipping, and preparedness to ensure that resources are in a constant state of readiness.

(x) Provide for the development and administration of a Public Trust program for the safeguarding of national security information:

(A) Direct and administer USDA's public trust program established pursuant to 5 CFR part 731 and Executive Order 13488, “Granting Reciprocity on Excepted Service and Federal Contractor Employee Fitness and Reinvestigating Individuals in Positions of Public Trust” (74 FR 4111, Jan. 22, 2009).

(B) Direct and administer USDA's program under which information is safeguarded pursuant to Executive Order 13526, “Classified National Security Information” (75 FR 707, Jan. 5, 2010), or subsequent orders.

(C) Establish and maintain Information Security policies and procedures for classifying, declassifying, safeguarding, and disposing of classified national security information and materials.

(D) Investigate or delegate authority to investigate any potential compromises of classified national security information and take corrective action for violations or infractions under section 5.5(b) of Executive Order 13526 or any subsequent order.

(E) Develop and maintain oversight of all facilities throughout USDA where classified national security information is or will be safeguarded, discussed, or processed including sole authority to liaison with the Central Intelligence Agency concerning guidance, approval, requirements, and oversight of USDA secure facilities.

(F) Act as the USDA focal point to identify, receive, disseminate and safeguard USDA related intelligence information as required; convey information to USDA policy officials; and liaise with the intelligence community, as appropriate.

(xi) Control within USDA the acquisition, use, and disposal of material and equipment that can be a source of ionizing radiation.

(A) Promulgate policies and procedures for ensuring the safety of USDA employees, the public, and the environment resulting from USDA's use of ionizing radiation sources.

(B) Maintain and ensure compliance with the Nuclear Regulatory Commission regulations (Title 10, Code of Federal Regulations) and license(s) issued to USDA for the acquisition, use, and disposal of radioactive materials.

(9) Related to operations support to the Department of Agriculture headquarters complex, George Washington Carver Center, and leased facilities in the Washington metro area.

(i) Provide services relating to facilities management and daily operational support for agencies and offices occupying USDA's headquarters complex, George Washington Carver Center, and, in coordination with the General Services Administration (GSA), USDA leased facilities in the Washington, DC metropolitan area, as well as at emergency relocation sites and certain critical facilities specified by the Assistant Secretary for Administration in the following areas:

(A) Acquiring, leasing, utilizing, constructing, maintaining, and disposing of real property, including control of space assignments, and architecture and engineering design oversight.

(B) Sustainable Operations leadership and management in the areas of internal energy efficiency, conservation and recycling in support of Executive Orders 13423, “Strengthening Federal Environmental, Energy, and Transportation Management,” 3 CFR, 2007 Comp., p. 193, and 13514, “Federal Leadership in Environmental, Energy, and Economic Performance” (74 FR 52117, Oct. 8, 2009).

(C) Occupational health, safety, and related functions; and environmental compliance pursuant to Executive Order 12088, “Federal Compliance with Pollution Control Standards,” 3 CFR, 1978 Comp., p. 243, to ensure actions are taken for the prevention, control, and abatement of environmental pollution.

(ii) Provide centralized Departmental business services including:

(A) Printing, copy reproducing, offset composing, mail management and delivery, and automated mailing lists.

(B) USDA Nationwide mail management policy.

(C) Operation of a disability resource center for all USDA agencies in the Washington, DC metropolitan area and nationwide in the areas of accessible technologies and reasonable accommodations.

(D) General supplies, shipping and receiving, warehouse and labor services.

(E) Operation of a USDA Consolidated Forms and Publications Distribution Center for storage and nationwide distribution of USDA program forms and publications.

(F) Excess personal property operations with disposition responsibility for all USDA agencies in the Washington, DC metropolitan area.

(G) Operation of a GSA authorized Federal excess property Sales Center for USDA property and other government agencies in the Washington, DC metropolitan area via Memorandum of Understanding (MOU).

(iii) Promulgate Departmental regulations, standards, techniques, and procedures and represent the Department in managing and maintaining a comprehensive physical and technical security program including access control, management of special police officer and guard services, executive driving, parking, ID badging in accordance with HSPD-12, occupant emergency and warden services at the USDA Headquarters Complex, George Washington Carver Center and, in coordination with GSA, USDA leased facilities in the Washington, DC metropolitan area, as well as at emergency relocation sites and certain critical facilities specified by the Assistant Secretary for Administration.

(iv) Provide management and oversight of the Secretary's People's Garden initiative and the USDA Visitor's Center for education and outreach to USDA and the public.

(v) Represent the Department in contacts with other organizations or agencies on matters related to assigned responsibilities.

(10) Related to Secretarial correspondence.

(i) Exercise responsibility for all correspondence control and related records management functions for the Office of the Secretary.

(ii) Provide administrative, editorial, and project management support services to the Immediate Office of the Secretary.

(11) Related to shared management services.

(i) Provide a full range of services, including: Procurement of supplies, services, and equipment; travel support, conference management, general administrative support including coordination of office renovations and moves (within USDA Whitten Building); budget, accounting, fiscal, and related financial management services; information technology services related to end user office automation, desktop computers, enterprise networking support, handheld devices and voice telecommunications; with authority to take actions required by law or regulation to perform said services for:

(A) The Secretary of Agriculture.

(B) The general officers of the Department, except the Inspector General.

(C) The offices and agencies reporting to the Assistant Secretary for Administration.

(D) Any other offices or agencies of the Department as may be agreed.

(ii) Prepare responses to requests under the Freedom of Information Act with authority to take actions as required by law or regulation for the offices and agencies reporting to the Assistant Secretary for Administration.

(iii) Administer the records management program in support of Departmental Management, and prepare and coordinate responses to management audits by the Inspector General and the Government Accountability Office with authority to take actions as required by law or regulation for the offices and agencies reporting to the Assistant Secretary for Administration.

(iv) Provide administrative and financial management support in the award and administration of grants, cooperative agreements, and Memoranda of Understanding in support of Departmental Management programs, with authority to take actions as required by law or regulation for the offices and agencies reporting to the Assistant Secretary for Administration.

(v) Provide human resources operational services for the following (with the exception of Senior Executives, Senior Level positions, and Political Appointees):

(A) The Secretary of Agriculture.

(B) The general officers of the Department.

(C) The offices and agencies reporting to the Assistant Secretary for Administration.

(D) Any other offices and agencies of the Department as may be agreed.

(12) Related to Office of Administrative Law Judges.

(i) Assign, after appropriate consultation with other general officers, to the Office of Administrative Law Judges proceedings not subject to 5 U.S.C. 556 and 557, involving the holdings of hearings and performance of related duties pursuant to the applicable rules of practice, when the Assistant Secretary for Administration determines that because of the nature of the proceeding it would be desirable for the proceeding to be presided over by an Administrative Law Judge and that such duties and responsibilities would not be inconsistent with those of an Administrative Law Judge.

(ii) Provide administrative supervision of the Office of Administrative Law Judges.

(iii) Maintain overall responsibility and control over the Hearing Clerk's activities which include the custody of and responsibility for the control, maintenance, and servicing of the original and permanent records of all USDA administrative proceedings conducted under the provisions of 5 U.S.C. 556 and 557:

(A) Receiving, filing and acknowledging the receipt of complaints, petitions, answers, briefs, arguments, and all other documents that may be submitted to the Secretary or the Department of Agriculture in such proceedings.

(B) Receiving and filing complaints, notices of inquiry, orders to show cause, notices of hearing, designations of Administrative Law Judges or presiding officers, answers, briefs, arguments, orders, and all other documents that may be promulgated or issued by the Secretary or other duly authorized officials of the Department of Agriculture in such proceedings.

(C) Supervising the service upon the parties concerned of any documents that are required to be served, and where required, preserving proof of service.

(D) Keeping a docket record of all such documents and proceedings.

(E) Filing a stenographic record of each administrative hearing where a transcript is required.

(F) Preparing for certification and certifying under the Secretary's facsimile signature, material on file in the Hearing Clerk's office.

(G) Performing any other clerical duties with respect to the documents relative to such proceedings as may be required to be performed.

(H) Cooperating with the Office of Operations in the letting of contracts for stenographic and reporting services; and forwarding vouchers to appropriate agencies for payment.

(I) Receiving and compiling data, views or comments filed in response to notices of proposed standards or rules or regulations.

(J) Performing upon request the following services with respect to any hearings in such proceedings:

(1) Arranging for suitable hearing place.

(2) Arranging for stenographic reporting of hearings and handling details in connection therewith.

(13) Other general.

(i) Administer the debarment authorities in section 14211 of the Food, Conservation, and Energy Act of 2008 (7 U.S.C. 2209j).

(ii) [Reserved]

(b) The following authorities are reserved to the Secretary of Agriculture:

(1) Related to financial systems and budget formulation and execution.

(i) Final approval of the Department's program and financial plans.

(ii) [Reserved]

(2) Related to human resources management. Make final determinations in the following areas:

(i) Separation of employees for security reasons.

(ii) Restoration to duty of employees following suspension from duty for security reasons.

(iii) Reinstatement or restoration to duty or the employment of any person separated for security reasons.

(iv) Issuance of temporary certificates to occupy sensitive positions.

§ 2.25 [Removed]

10. Remove § 2.25.

Subpart D—Delegations of Authority to Other General Officers and Agency Heads

§ 2.26 [Removed]

11. Remove § 2.26.

12. Amend § 2.27 by revising paragraph (b) introductory text and paragraph (b)(2), to read as follows:

§ 2.27 Office of Administrative Law Judges.

* * * * *

(b) The Chief Administrative Law Judge is delegated the following administrative responsibilities subject to the guidance and control of the Assistant Secretary for Administration (See § 2.24(a)(12)):

* * * * *

(2) Direct the functions of the Hearing Clerk as set out in § 2.24(a)(12)(iii).

§ 2.28 [Removed]

13. Remove § 2.28.

§ 2.30 [Removed]

14. Remove § 2.30.

§ 2.32 [Removed]

15. Remove § 2.32.

16. Amend § 2.35 as follows:

a. Revise paragraphs (a)(9) and (a)(10); and

b. Add new paragraphs (a)(11), (a)(12), and (a)(13), to read as follows:

§ 2.35 Judicial Officer.

(a) * * *

(9) Act as final deciding officer in adjudicatory proceedings under section 359i of the Agricultural Adjustment Act of 1938, as amended (7 U.S.C. 1359ii);

(10) Issue rules of practice applicable to proceedings conducted under section 359i of the Agricultural Adjustment Act of 1938, as amended (7 U.S.C. 1359ii);

(11) Act as final deciding officer in adjudicatory proceedings subject to the “Rules of Practice Governing Proceedings on Petitions To Modify or To Be Exempted From Marketing Orders” set forth in sections 900.50 through 900.71 of this title;

(12) Act as final deciding officer in adjudicatory proceedings subject to the “Rules of Practice Governing Proceedings on Petitions to Modify or To Be Exempted from Research, Promotion, and Information Programs” set forth in part 1200, subpart B, of this title; and

(13) Act as final deciding officer in adjudicatory proceedings subject to “Appeals of Quality Control (`QC') Claims” set forth in part 283 of this title.

* * * * *

§ 2.37 [Removed]

17. Remove § 2.37.

Subpart F—Delegations of Authority by the Under Secretary for Farm and Foreign Agricultural Services

18. Amend § 2.42 by revising paragraph (a)(55) to read as follows:

§ 2.42 Administrator, Farm Service Agency.

(a) * * *

(55) In coordination with the Director, Office of Advocacy and Outreach, issue receipts under section 2501A(e) of the Food, Agriculture, Conservation, and Trade Act of 1990 (7 U.S.C. 2279-1(e)).

* * * * *

Subpart G—Delegations of Authority by the Under Secretary for Rural Development

19. Revise § 2.45 to read as follows:

§ 2.45 Deputy Under Secretary for Rural Development.

Pursuant to § 2.17(a), subject to reservations in § 2.17(b), and subject to policy guidance and direction by the Under Secretary, the following delegation of authority is made to the Deputy Under Secretary for Rural Development, to be exercised only during the absence or unavailability of the Under Secretary: Perform all the duties and exercise all the powers which are now or which may hereafter be delegated to the Under Secretary for Rural Development.

20. Amend § 2.47 by revising paragraph (a)(16), to read as follows:

§ 2.47 Administrator, Rural Utilities Service.

(a) * * *

(16) In coordination with the Director, Office of Advocacy and Outreach, issue receipts under section 2501A(e) of the Food, Agriculture, Conservation, and Trade Act of 1990 (7 U.S.C. 2279-1(e)).

* * * * *

21. Amend § 2.48 by revising paragraph (a)(32), to read as follows:

§ 2.48 Administrator, Rural Business-Cooperative Service.

(a) * * *

(32) In coordination with the Director, Office of Advocacy and Outreach, issue receipts under section 2501A(e) of the Food, Agriculture, Conservation, and Trade Act of 1990 (7 U.S.C. 2279-1(e)).

* * * * *

22. Amend § 2.49 as follows:

a. Remove and reserve paragraph (a)(3); and

b. Revise paragraph (a)(13), to read as follows:

§ 2.49 Administrator, Rural Housing Service.

(a) * * *

(3) [Reserved]

* * * * *

(13) In coordination with the Director, Office of Advocacy and Outreach, issue receipts under section 2501A(e) of the Food, Agriculture, Conservation, and Trade Act of 1990 (7 U.S.C. 2279-1(e)).

* * * * *

Subpart H—Delegations of Authority by the Under Secretary for Food Safety

23. Revise § 2.51 to read as follows:

§ 2.51 Deputy Under Secretary for Food Safety

Pursuant to § 2.18, and subject to policy guidance and direction by the Under Secretary, the following delegation of authority is made by the Under Secretary for Food Safety to the Deputy Under Secretary for Food Safety, to be exercised only during the absence or unavailability of the Under Secretary: Perform all the duties and exercise all the powers which are now or which may hereafter be delegated to the Under Secretary for Food Safety.

Subpart J—Delegations of Authority by the Under Secretary for Natural Resources and Environment

24. Amend § 2.61 by revising paragraph (a)(27), to read as follows:

§ 2.61 Chief, Natural Resources Conservation Service.

(a) * * *

(27) In coordination with the Director, Office of Advocacy and Outreach, issue receipts under section 2501A(e) of the Food, Agriculture, Conservation, and Trade Act of 1990 (7 U.S.C. 2279-1(e)).

* * * * *

Subpart K—Delegations of Authority by the Under Secretary for Research, Education, and Economics

25. Amend § 2.65 by removing and reserving paragraph (a)(56), to read as follows:

§ 2.65 Administrator, Agricultural Research Service.

(a) * * *

(56) [Reserved]

* * * * *

26. Amend § 2.66 by revising the section heading and removing and reserving paragraph (a)(9), to read as follows:

§ 2.66 Director, National Institute of Food and Agriculture.

(a) * * *

(9) [Reserved]

* * * * *

Subpart M [Reserved]

27. Remove and reserve subpart M as set forth above.

28. Revise subpart P to read as follows:

Subpart P—Delegations of Authority by the Assistant Secretary for Administration
Sec.
2.87 Deputy Assistant Secretaries for Administration.
2.88 Assistant Secretary for Civil Rights.
2.89 Chief Information Officer.
2.90 Chief Financial Officer.
2.91 Director, Office of Human Resources Management.
2.92 Director, Office of Small and Disadvantaged Business Utilization.
2.93 Director, Office of Procurement and Property Management.
2.94 Director, Office of Advocacy and Outreach.
2.95 Director, Office of Homeland Security and Emergency Coordination.
2.96 Director, Office of Operations.
2.97 Director, Office of the Executive Secretariat.
2.98 Director, Management Services.

Subpart P—Delegations of Authority by the Assistant Secretary for Administration

§ 2.87 Deputy Assistant Secretary for Administration.

Pursuant to § 2.24(a), and subject to reservations in § 2.24(b), the following delegation of authority is made by the Assistant Secretary for Administration to the Deputy Assistant Secretary for Administration, to be exercised only during the absence or unavailability of the Assistant Secretary: Perform all the duties and exercise all the powers which are now or which may hereafter be delegated to the Assistant Secretary for Administration: Provided, that this authority shall be exercised first by a respective non-career Deputy Assistant Secretary in the order in which he or she has taken office as Deputy Assistant Secretary, and second by a career Deputy Assistant Secretary.

§ 2.88 Assistant Secretary for Civil Rights.

(a) Delegations. Pursuant to § 2.24(a)(1), and with due deference for delegations to other Departmental Management officials, the following delegations of authority are made by the Assistant Secretary for Administration to the Assistant Secretary for Civil Rights:

(1) Provide overall leadership, coordination, and direction for the Department's programs of civil rights, including program delivery, compliance, and equal employment opportunity, with emphasis on the following:

(i) Actions to enforce Title VI of the Civil Rights Act of 1964, 42 U.S.C. 2000d, prohibiting discrimination in federally assisted programs.

(ii) Actions to enforce Title VII of the Civil Rights Act of 1964, as amended, 42 U.S.C. 2000e, prohibiting discrimination in Federal employment.

(iii) Actions to enforce Title IX of the Education Amendments of 1972, 20 U.S.C. 1681, et seq., prohibiting discrimination on the basis of sex in USDA education programs and activities funded by the Department.

(iv) Actions to enforce the Age Discrimination Act of 1975, 42 U.S.C. 6102, prohibiting discrimination on the basis of age in USDA programs and activities funded by the Department.

(v) Actions to enforce section 504 of the Rehabilitation Act of 1973, as amended, 29 U.S.C. 794, prohibiting discrimination against individuals with disabilities in USDA programs and activities funded or conducted by the Department.

(vi) Actions to enforce related Executive Orders, Congressional mandates, and other laws, rules, and regulations, as appropriate.

(2) Evaluate Departmental agency programs, activities, and impact statements for civil rights concerns.

(3) Analyze and evaluate program participation data and equal employment opportunity data.

(4) Provide leadership and coordinate Departmentwide programs of public notification regarding the availability of USDA programs on a nondiscriminatory basis.

(5) Coordinate with the Department of Justice on matters relating to title VI of the Civil Rights Act of 1964 (42 U.S.C. 2000d), title IX of the Education Amendments of 1972 (20 U.S.C. 1681, et seq.), and section 504 of the Rehabilitation Act of 1973, as amended (29 U.S.C. 794), except those matters in litigation, including administrative enforcement actions, which shall be coordinated by the Office of the General Counsel.

(6) Coordinate with the Department of Health and Human Services on matters relating to the Age Discrimination Act of 1975, 42 U.S.C. 6102, except those matters in litigation, including administrative enforcement actions, which shall be coordinated by the Office of the General Counsel.

(7) Order proceedings and hearings in the Department pursuant to §§ 15.9(e) and 15.86 of this title which concern consolidated or joint hearings within the Department or with other Federal departments and agencies.

(8) Order proceedings and hearings in the Department pursuant to § 15.8 of this title after the program agency has advised the applicant or recipient of his or her failure to comply and has determined that compliance cannot be secured by voluntary means.

(9) Issue orders to give a notice of hearing or the opportunity to request a hearing pursuant to part 15 of this title; arrange for the designation of an Administrative Law Judge to preside over any such hearing; and determine whether the Administrative Law Judge so designated will make an initial decision or certify the record to the Secretary of Agriculture with his or her recommended findings and proposed action.

(10) Authorize the taking of action pursuant to § 15.8(a) of this title relating to compliance by “other means authorized by law.”

(11) Make determinations required by § 15.8(d) of this title that compliance cannot be secured by voluntary means, and then take action, as appropriate.

(12) Make determinations that program complaint investigations performed under § 15.6 of this title establish a proper basis for findings of discrimination, and that actions taken to correct such findings are adequate.

(13) Investigate (or make determinations that program complaint investigations establish a proper basis for final determinations), make final determinations on both the merits and required corrective action, and, where applicable, make recommendations to the Secretary that relief be granted under 7 U.S.C. 6998(d) notwithstanding the finality of National Appeals Division decisions, as to complaints filed under parts 15a, 15b, and 15d of this title.

(14) Conduct civil rights investigations and compliance reviews Departmentwide.

(15) Develop regulations, plans, and procedures necessary to carry out the Department's civil rights programs, including the development, implementation, and coordination of Action Plans.

(16) Related to Equal Employment Opportunity (EEO). Is designated as the Department's Director of Equal Employment Opportunity with authority:

(i) To perform the functions and responsibilities of that position under 29 CFR part 1614, including the authority:

(A) To make changes in programs and procedures designed to eliminate discriminatory practices and improve the Department's EEO program.

(B) To provide EEO services for managers and employees.

(C) To make final agency decisions on EEO complaints by Department employees or applicants for employment and order such corrective measures in such complaints as may be considered necessary, including, in consultation with the Director, Office of Human Resources Management, the recommendation for such disciplinary action as is warranted when an employee has been found to have engaged in a discriminatory practice.

(ii) Administer the Department's EEO program.

(iii) Oversee and manage the EEO counseling function for the Department.

(iv) Process formal EEO complaints by employees or applicants for employment.

(v) Investigate Department EEO complaints and make final decisions on EEO complaints, except in those cases where the Assistant Secretary for Administration (or a person in the immediate office of the Assistant Secretary for Administration) or the Assistant Secretary for Civil Rights (or a person directly supervised by the Assistant Secretary for Civil Rights) has participated in the events that gave rise to the matter.

(vi) Order such corrective measures in EEO complaints as may be considered necessary, including the recommendation for such disciplinary action as is warranted when an employee has been found to have engaged in a discriminatory practice.

(vii) Provide liaison on EEO matters concerning complaints and appeals with the Department agencies and Department employees.

(viii) Conduct EEO evaluations and develop policy regarding EEO programs.

(ix) Provide liaison on EEO programs and activities with the Equal Employment Opportunity Commission and the Office of Personnel Management.

(17) Administer the discrimination appeals and complaints program for the Department, including all formal individual or group appeals, where the system provides for an avenue of redress to the Department level, Equal Employment Opportunity Commission, or other outside authority.

(18) Make final determinations, or enter into settlement agreements, on discrimination complaints in federally conducted programs subject to the Equal Credit Opportunity Act. This delegation includes the authority to make compensatory damage awards whether pursuant to a final determination or in a settlement agreement under the authority of the Equal Credit Opportunity Act and the authority to obligate agency funds, including Commodity Credit Corporation and Federal Crop Insurance Corporation funds to satisfy such an award.

(19) Make final determinations in proceedings under part 15f of this title where review of an administrative law judge decision is undertaken.

(20) Provide civil rights and equal employment opportunity support services, with authority to take actions required by law or regulation to perform such services for:

(i) The Secretary of Agriculture.

(ii) The general officers of the Department.

(iii) The offices and agencies reporting to the Assistant Secretary for Administration.

(iv) Any other offices or agencies of the Department as may be agreed.

(21) Redelegate, as appropriate, any authority delegated under this section to general officers of the Department and heads of Departmental agencies.

(b) [Reserved]

§ 2.89 Chief Information Officer.

(a) Delegations. The Chief Information Officer, under the supervision of the Assistant Secretary for Administration pursuant to § 2.24(a)(2), and with due deference for delegations to other Departmental Management officials, is responsible for executing the duties enumerated in Public Law 104-106 for agency Chief Information Officers, and additional specified duties, as follows:

(1) Report directly to the Secretary of Agriculture regarding information technology matters.

(2) Oversee all information technology and information resource management activities relating to the programs and operations of the Department and component agencies. This oversight includes approving information technology investments, monitoring and evaluating the performance of those investments and information resource management activities, approval of all architectures and components thereto and determining whether to continue, modify, or terminate an information technology program or project.

(3) Provide advice and other assistance to the Secretary and other senior management personnel to ensure that information technology acquired and managed for the Department consistent with chapter 35 of title 44, United States Code (Coordination of Federal Information Policy).

(4) Develop, implement, and maintain a sound and integrated Departmentwide information technology architecture.

(5) Promote the effective and efficient design and operation of all major information resources management processes for the Department, including improvements to work processes of the Department.

(6) Approve the acquisition or procurement of information technology resources by, or on behalf of, any Department agency or office.

(7) Collaborate with Department procurement personnel with respect to information technology acquisition strategy and policy.

(8) Function as the Major Information Technology Systems Executive in USDA to integrate and unify the management process for the Department's major information technology system acquisitions and to monitor implementation of the policies and practices set forth in Office of Management and Budget (OMB) Circular No. A-109, Major Systems Acquisitions, for information technology. This includes the authority to:

(i) Ensure that OMB Circular No. A-109 is effectively implemented for information technology systems in the Department and that the management objectives of the Circular are realized.

(ii) Review the program management of each major information technology system acquisition.

(iii) Approve the appointment of the program manager for each major information technology systems acquisition.

(iv) Designate any Departmental information technology acquisition as a major system acquisition under OMB Circular No. A-109.

(9) On an annual basis:

(i) Assess Departmentwide personnel requirements regarding knowledge and skill in information resources management, and the adequacy of such requirements, to achieve the performance goals established for information resources management.

(ii) Develop strategies and specific plans for hiring, training, and professional development at the executive and management level to meet personnel information technology personnel requirements.

(iii) Report to the Assistant Secretary for Administration on progress made in improving information resources management capability.

(10) Function as the senior official to carry out the responsibilities of the Department under chapter 35 of title 44, United States Code (Coordination of Federal Information Policy), including:

(i) Ensure that the information policies, principles, standards, guidelines, rules and regulations prescribed by OMB are appropriately implemented within the Department.

(ii) Review proposed Department reporting and record keeping requirements, including those contained in rules and regulations, to ensure that they impose the minimum burden upon the public and have practical utility for the Department.

(iii) Develop and implement procedures for assessing the burden to the public and costs to the Department of information requirements contained in proposed legislation affecting Department programs.

(iv) Assist OMB in the performance of its functions assigned under the E-Government Act of 2002 (Pub. L. 107-347), including review of Department and Agency activities for compliance.

(v) Assist OMB in the performance of its functions assigned under the Paperwork Reduction Act of 1995 (44 U.S.C. 3501-3520), including review of Department and Agency activities for compliance.

(11) The Chief Information Officer is also responsible for the following:

(i) Provide Departmentwide guidance and direction in planning, developing, documenting, and managing applications software projects in accordance with Federal and Department information processing standards, procedures, and guidelines.

(ii) Provide Departmentwide guidance and direction in all aspects of information technology, including: Feasibility studies; economic analyses; systems design; acquisition of equipment, software, services, and timesharing arrangements; systems installation; systems performance and capacity evaluation; information technology investment governance; cybersecurity; and privacy. Monitor these activities for agencies' major systems development efforts to assure effective and economic use of resources and compatibility among systems of various agencies when required.

(iii) Manage the Enterprise Data Centers, with the exception of the National Finance Center; and oversee the delivery of Enterprise Data Center goods and services, with authority to take actions required by law or regulation to perform such services for:

(A) The Secretary of Agriculture.

(B) The general officers of the Department.

(C) The offices and agencies reporting to the Assistant Secretary for Administration.

(D) Any other offices or agencies of the Department as may be agreed.

(iv) Manage a comprehensive set of end user office automation services and oversee the delivery of goods and services associated with end user office automation services, with authority to take actions required by law or regulation to perform such services for any offices or agencies of the Department as may be agreed (except for the Office of the Secretary, the general officers of the Department, and the agencies and offices reporting to the Assistant Secretary for Administration, as specified in § 2.98(a)(1)).

(v) Manage the Agricultural Security Operations Center to enable the Department to effectively monitor, detect, analyze, protect, report, and respond against known cyber vulnerabilities, attacks, and exploitations.

(vi) Manage the Department's Certification and Accreditation process to ensure the Department and agencies have successfully conducted periodic risk assessments of its systems; grant the authority to operate for systems that have successfully completed the Certification and Accreditation process; and rescind or suspend the authority to operate for systems subject to repeated and/or significant security issues.

(vii) Ensure that OMB Circular No. A-16, Coordination of Geographic Information and Related Spatial Data Activities, is effectively implemented in the Department and that the management objectives of the Circular are realized; and providing Departmentwide guidance and direction in governing, developing, implementing, and maintaining a sound and integrated geospatial architecture.

(viii) Review and evaluate information technology activities related to delegated functions to assure that they conform to all applicable Federal and Department information technology management policies, plans, standards, procedures, and guidelines.

(ix) Design, develop, implement, and revise systems, processes, work methods, and techniques to improve the management and operational effectiveness of information resources.

(x) Administer the Departmental records, forms, reports and Directives Management Programs.

(xi) Manage all aspects of the USDA Telecommunications Program including planning, development, acquisition, and use of equipment and systems for voice, data, and communications, excluding the actual procurement of data transmission equipment, software, maintenance, and related supplies.

(xii) Manage Departmental telecommunications contracts.

(xiii) Provide technical advice throughout the Department.

(xiv) Implement a program for applying information resources management technology to improve productivity in the Department.

(xv) Plan, develop, install, and operate computer-based systems for message exchange, scheduling, computer conferencing, televideo technologies, and other applications of office automation technology which can be commonly used by multiple Department agencies and offices.

(xvi) Represent the Department in contacts with the Government Accountability Office, the General Services Administration, OMB, the National Institute of Standards and Technology, and other organizations or agencies on matters related to delegated responsibilities.

(12) Implement policies established pursuant to paragraphs (a)(1) through (a)(11) of this section by:

(i) Disposing of information technology that is acquired by a Department agency in violation of procedures or standards for the Department Information Systems Technology Architecture.

(ii) Establishing information technology and information resources management performance standards for agency Chief Information Officers, information resources managers, and project managers to be used in the performance appraisal process.

(iii) Approving the selection of agency Chief Information Officers and agency major information technology system project managers in accordance with OMB policies.

(iv) Providing recommendations to Agency Heads for the removal or replacement of information technology project managers, when, in the opinion of the Chief Information Officer, applicable laws and policies are being violated, or, when the cost, schedule, or performance of an information technology project would indicate management deficiencies.

(v) Withdrawing agencies' authority to obligate funds on Information Technology programs or projects if the agency violates the Chief Information Officer policies, standards, or Department Information Systems Technology Architecture.

(vi) Requiring agencies to validate and verify major information technology systems through the use of an existing contract for such purpose designated by the Chief Information Officer.

(vii) Requiring approval by the Chief Information Officer of any proposed acquisition of information technology (whether through the award or modification of a procurement contract, a cooperative or other agreement with a non-Federal party, or an interagency agreement) to ensure technical conformance to the Department technical architecture.

(viii) Providing guidance to USDA regarding implementation of Section 508 of the Rehabilitation Act, as well as on-going consultative assistance regarding information technology accessibility, and reviewing progress made toward achieving information technology accessibility for USDA employees and individuals with disabilities.

(13) Related to the Privacy Act. Appoint a Department Privacy Act Officer; oversee general officers and agency heads in the development and implementation of policies issued pursuant to the provisions of the Privacy Act, 5 U.S.C. 552a; and provide consultation and guidance regarding those policies.

(14) Related to the Freedom of Information Act. Serve as the Chief Freedom of Information Act Officer for the Department; oversee general officers and agency heads in efficient and appropriate compliance with the provisions of the Freedom of Information Act (5 U.S.C. 552); monitor implementation of 5 U.S.C. 552 throughout the agency and keep the Secretary, the General Counsel, and the Attorney General informed regarding agency performance in its implementation; recommend to the Secretary necessary adjustments to agency practices, policies, personnel, and funding to improve implementation of 5 U.S.C. 552; review and report to the Attorney General, through the Secretary, as the Attorney General may direct; and, facilitate public understanding of the purposes of the statutory exemptions contained in 5 U.S.C. 552.

(b) [Reserved]

§ 2.90 Chief Financial Officer.

(a) The Chief Financial Officer, under the supervision of the Assistant Secretary for Administration pursuant to §§ 2.24(a)(3) and 2.24(a)(13), with due deference for delegations to other Departmental Management officials, and subject to the reservations in § 2.24(b), is responsible for executing the duties enumerated for agency Chief Financial Officers in the Chief Financial Officers Act of 1990, Public Law 101-576, 31 U.S.C. 902, and additional specified duties, including:

(1) Report directly to the Secretary of Agriculture regarding financial management matters.

(2) Oversee all financial management activities relating to the programs and operations of the Department and component agencies.

(3) Develop and maintain an integrated accounting and financial system for the Department and component agencies, including financial reporting and internal controls, which—

(i) Complies with applicable accounting principles, standards, and requirements, and internal control standards;

(ii) Complies with such policies and requirements as may be prescribed by the Director of the Office of Management and Budget (OMB);

(iii) Complies with any other requirements applicable to such systems; and

(iv) Provides for complete, reliable, consistent, and timely information which is prepared on a uniform basis and which is responsive to the financial information needs of Department management and for the development and reporting of cost information, the integration of accounting and budgeting information, and the systematic measurement of performance.

(4) Make recommendations to the Assistant Secretary for Administration regarding the selection of the Deputy Chief Financial Officer of the Department, and selection of principal financial officers of component agencies of the Department.

(5) Direct, manage, and provide policy guidance and oversight of Department financial management personnel, activities, and operations, including:

(i) Prepare and annually revise a Departmental plan to:

(A) Implement the 5-year financial management plan prepared by the Director of OMB under 31 U.S.C. 3512(a)(3); and

(B) Comply with the requirements established for agency financial statements under 31 U.S.C. 3515 and with the requirements for audits of Department financial statements established in 31 U.S.C. 3521(e) and (f).

(ii) Develop Departmental financial management budgets, including the oversight and recommendation of approval of component agency financial management budgets.

(iii) Recruit, select, and train personnel to carry out Departmental financial management functions.

(iv) Approve and manage Departmental, and approve component agency, financial management systems design or enhancement projects.

(v) Implement and approve Departmental, and approve component agency, asset management systems, including systems for cash management, credit management, debt collection, and property and inventory management and control.

(6) Prepare and transmit, by not later than 60 days after the submission of the audit report required by 31 U.S.C. 3521(f), an annual report to the Secretary, the Assistant Secretary for Administration, and the Director of OMB, which shall include:

(i) A description and analysis of the status of financial management of the Department.

(ii) The annual financial statements prepared under 31 U.S.C. 3521.

(iii) The audit report transmitted to the Secretary under 31 U.S.C. 3521.

(iv) A summary of the reports on internal accounting and administrative control systems submitted to the President and the Congress under the amendments made by the Federal Managers' Financial Integrity Act of 1982 (31 U.S.C. 1113, 3512).

(v) Other information the Secretary considers appropriate to inform fully the President and the Congress concerning the financial management of the Department.

(7) Monitor the financial execution of the budget of the Department in relation to projected and actual expenditures, and prepare and submit to the Secretary timely performance reports.

(8) Review, on a biennial basis, the fees, royalties, rent, and other charges imposed by the Department for services and things of value it produces, and make recommendations on revising those charges to reflect costs incurred by the Department in providing those services and things of value.

(9) Access all records, reports, audits, reviews, documents, papers, recommendations, or other material that are the property of the Department or that are available to the Department, and that relate to programs and operations with respect to which the Chief Financial Officer has responsibilities, except that this grant allows no access greater than that permitted under any other law to records, reports, audits, reviews, documents, papers, recommendations, or other material of the Office of Inspector General.

(10) Request such information or assistance as may be necessary for carrying out the duties and responsibilities granted by the Chief Financial Officers Act of 1990 (Pub. L. 101-576), from any Federal, State, or local governmental entity.

(11) To the extent and in such amounts as may be provided in advance by appropriations acts, enter into contracts and other arrangements with public agencies and with private persons for the preparation of financial statements, studies, analyses, and other services, and making such payments as may be necessary to carry out the duties and prerogatives of the Chief Financial Officer.

(12) Designate the Department's Comptroller of the Department Working Capital Fund.

(13) Establish Departmental policies, standards, techniques, and procedures applicable to all USDA agencies for the following areas:

(i) Development, maintenance, review and approval of all departmental, and review and approval of component agency, internal control, fiscal, financial management and accounting systems including the financial aspects of payment management and property systems.

(ii) Selection, standardization, and simplification of program delivery processes utilizing grants, cooperative agreements and other forms of Federal assistance.

(iii) Review and approval of Federal assistance, internal control, fiscal, accounting and financial management regulations and instructions proposed or issued by USDA agencies for conformity with Departmental requirements.

(iv) Section 5301 of the Anti-Drug Abuse Act of 1988 (21 U.S.C. 862) as it relates to grants, loans, and licenses.

(14) Establish policies related to the Department Working Capital Fund.

(15) Approve regulations, procedures and rates for goods and services financed through the Department Working Capital Fund which will impact the financial administration of the Fund.

(16) Exercise responsibility and authority for operating USDA's financial and subsidiary management systems and related administrative systems including: Departmentwide payroll and personnel information systems, statistics, administrative payments, billings and collections, and related reporting systems that are either requested by the agencies or required by the Department.

(17) Manage the National Finance Center (NFC).

(18) Provide management support services for the NFC, and by agreement with agency heads concerned, provide such services for other USDA tenants housed in the same facility. As used herein, such management support services shall include:

(i) Personnel services, as listed in § 2.91(a)(10), and organizational support services, with authority to take actions required by law or regulation to perform such services; and

(ii) Procurement, property management, space management, communications, messenger, paperwork management, and related administrative services, with authority to take actions required by law or regulation to perform such services.

(19) Exercise responsibility and authority for all matters related to the Department's accounting and financial operations including such activities as:

(i) Financial administration, including accounting and related activities.

(ii) Reviewing financial aspects of agency operations and proposals.

(iii) Furnishing consulting services to agencies to assist them in developing and maintaining accounting and financial management systems and internal controls, and for other purposes consistent with delegations in paragraph (a)(13) of this section.

(iv) Reviewing and monitoring agency implementation of Federal assistance policies.

(v) Reviewing and approving agencies' accounting systems documentation including related development plans, activities, and controls.

(vi) Monitoring agencies' progress in developing and revising accounting and financial management systems and internal controls.

(vii) Evaluating agencies' financial systems to determine the effectiveness of procedures employed, compliance with regulations, and the appropriateness of policies and practices.

(viii) Promulgation of Department schedule of fees and charges for reproductions, furnishing of copies and making searches for official records pursuant to the Freedom of Information Act, 5 U.S.C. 552.

(ix) Monitoring USDA implementation of section 5301 of the Anti-Drug Abuse Act of 1988 (21 U.S.C. 862) as it relates to grants, loans, and licenses.

(20) Establish Department and approve component agency programs, policies, standards, systems, techniques and procedures to improve the management and operational efficiency and effectiveness of the USDA including:

(i) Increased use of operations research and management science in the areas of productivity and management.

(ii) All activities financed through the Department Working Capital Fund.

(21) Develop Departmental policies, standards, techniques, and procedures for the conduct of reviews and analysis of the utilization of the resources of State and local governments, other Federal agencies and of the private sector in domestic program operations.

(22) Represent the Department in contacts with OMB, General Services Administration, GAO, Department of the Treasury, Office of Personnel Management, Department of Health and Human Services, Department of Labor, Environmental Protection Agency, Department of Commerce, Congress of the United States, State and local governments, universities, and other public and private sector individuals, organizations or agencies on matters related to assigned responsibilities.

(23) Establish policies related to travel by USDA employees.

(24) Exercise responsibility for coordinating and overseeing the implementation of the Government Performance and Results Act of 1993, Public Law 103-62, at the Department.

(25) Provide budget, accounting, fiscal and related financial management services, with authority to take action required by law or regulation to provide such services for Working Capital Funds and general appropriated and trust funds for:

(i) The Secretary of Agriculture.

(ii) The general officers of the Department, except the Inspector General.

(iii) The offices and agencies reporting to the Assistant Secretary for Administration,

(iv) Any other offices and agencies of the Department as may be agreed.

(26) Develop, promulgate, and coordinate Department-wide policy concerning nonprocurement debarment and suspension.

(27) Prepare and submit to Congress reports on conferences sponsored or held by the Department or attended by employees of the Department (7 U.S.C. 2255b).

(28) Related to budget formulation and program analysis.

(i) Designate the Department's Budget Officer and exercise general responsibility and authority for all matters related to the Department's budgeting affairs including:

(A) Resource administration, including all phases of the acquisition, and distribution of funds and staff years.

(B) Legislative and regulatory reporting and related activities.

(ii) Provide staff assistance for the Secretary, general officers, and other Department and agency officials.

(iii) Formulate and promulgate Departmental budgetary, legislative and regulatory policies and procedures.

(iv) Represent the Department in contacts with OMB, the GAO, the Department of the Treasury, Congressional Committees on Appropriations, and other organizations and agencies on matters related to his or her responsibility.

(v) Coordinate and/or conduct policy and program analyses on agency operations and proposals to assist the Secretary, general officers and other Department and agency officials in formulating and implementing USDA policies and programs.

(vi) Review and analyze legislation, regulations, and policy options to determine their impact on USDA programs and policy objectives and on the Department's budget.

(vii) Monitor ongoing studies with significant program or policy implications.

(29) Administer the debarment authorities in section 14211 of the Food, Conservation, and Energy Act of 2008 (7 U.S.C. 2209j) in coordination with the Director, Office of Procurement and Property Management.

§ 2.91 Director, Office of Human Resources Management.

(a) Delegations. Pursuant to § 2.24(a)(4), with due deference for delegations to other Departmental Management officials, and subject to the reservations in § 2.24(b), the following delegations of authority are made by the Assistant Secretary for Administration to the Director, Office of Human Resources Management:

(1) Formulate and issue Department policy, standards, rules and regulations relating to human resources management.

(2) Provide human resources management procedural guidance and operational instructions.

(3) Set standards for human resources data systems.

(4) Inspect and evaluate human resources management operations and issue instructions or take direct action to insure conformity with appropriate laws, Executive Orders, Office of Personnel Management (OPM) rules and regulations, and other appropriate rules and regulations.

(5) Exercise final authority in all human resources matters, including individual cases, that involve the jurisdiction of more than one General Officer, or agency head, or otherwise as deemed appropriate.

(6) Receive, review, and recommend action on all requests for the Secretary's or Assistant Secretary for Administration's approval in human resources matters.

(7) Authorize and make final decisions on adverse actions except in those cases where the Assistant Secretary for Administration or the Director, Office of Human Resources Management, has participated.

(8) Represent the Department in human resources matters in all contacts outside the Department.

(9) Exercise specific authorities in the following operational matters:

(i) Waive repayment of training expenses where an employee fails to fulfill service agreement.

(ii) Establish or change standards and plans for awards to private citizens.

(iii) Execute, change, extend, or renew:

(A) Labor-Management Agreements.

(B) Certifications of supervisory/managerial and non-labor union employee and professional organizations and associations.

(iv) Represent the Department in all contacts with the national offices of labor organizations in fulfilling the Department's national consultation obligations under 5 U.S.C. 7113.

(v) Change a position (with no material change in duties) from one pay system to another.

(vi) Grant restoration rights, and release employees with administrative reemployment rights.

(vii) Authorize any mass dismissals of employees in the Washington, DC metropolitan area.

(viii) Approve “normal line of promotion” cases in the excepted service where not in accordance with time-in grade criteria.

(ix) Make the final decision on all classification appeals filed with the Department of Agriculture.

(x) Authorize all employment actions (except nondisciplinary separations and LWOP) and classification actions for senior level and equivalent positions including Senior Executive Service positions and special authority professional and scientific positions responsible for carrying out research and development functions.

(xi) Authorize all employment actions (except LWOP) for the following positions:

(A) Schedule C.

(B) Non-career Senior Executive Service or equivalent.

(C) Administrative Law Judge.

(xii) Authorize and make final decisions on adverse actions for positions in GS-1-15 or equivalent.

(xiii) Authorize and make final decisions on adverse actions for positions in the career Senior Executive Service or equivalent.

(xiv) Approve the details of Department employees to the White House.

(xv) Authorize adverse actions based in whole or in part on an allegation of violation of 5 U.S.C. chapter 73, subchapter III, for employees in the excepted service.

(xvi) Authorize long-term training in programs which require Departmentwide competition.

(xvii) Initiate and take adverse action in cases involving a violation of the merit system.

(xviii) Any other human resources operational matter.

(10) As used in this section, the term human resources includes:

(i) Position management.

(ii) Position classification.

(iii) Employment.

(iv) Pay administration.

(v) Automated human resources data and systems.

(vi) Hours of duty.

(vii) Performance management.

(viii) Promotions.

(ix) Employee development.

(x) Incentive programs.

(xi) Leave.

(xii) Retirement.

(xiii) Human resources program management accountability and evaluation.

(xiv) Social security.

(xv) Life insurance.

(xvi) Health benefits.

(xvii) Unemployment compensation.

(xviii) Labor management relations.

(xix) Intramanagement consultation.

(xx) [Reserved]

(xxi) Discipline.

(xxii) Appeals.

(xxiii) Drug Testing Program.

(xxiv) Worklife Program.

(xxv) Transit Subsidy Program.

(xxvi) Alternative Dispute Resolution.

(11) Maintain, review, and update Departmental delegations of authority.

(12) Recommend authorization of organizational changes.

(13) Formulate and promulgate Departmental policies regarding reorganizations.

(14) [Reserved]

(15) Provide for diversity and inclusion, as follows:

(i) Establish, direct, and provide policy and oversight for a Department-wide Special Emphasis Program (SEP) including: Women, African Americans, Hispanics, Asian/Pacific Islanders, Native Americans, Disabled, and Gay/Lesbian/Bisexual/Transgender.

(ii) Provide oversight and support for Departmental SEP recognition programs.

(iii) Direct and oversee the Department-wide SEPM Council.

(iv) Administer Federal Equal Opportunity Recruitment Program.

(16) Oversee and manage the Department's administrative grievance program.

(17) Make final decisions in those cases where an agency head has appealed the recommended decision of a grievance examiner.

(18) Administer the administrative appeals process related to the inclusion of positions in the testing designated position listing in the Department's Drug-Free Workplace Program and designate the final appeal officer for that Program.

(19) Formulate and issue Department policy, standards, rules, and regulations relating to the Senior Scientific Research Service (7 U.S.C. 7657).

(20) Related to conflict management.

(i) Designate the senior official to serve as the Department Dispute Resolution Specialist under the Administrative Dispute Resolution Act of 1996, 5 U.S.C. 571, et seq., and provide leadership, direction and coordination for the Department's conflict prevention and resolution activities.

(ii) Issue Departmental regulations, policies, and procedures relating to the use of Alternative Dispute Resolution (ADR) to resolve employment complaints and grievances, workplace disputes, Departmental program disputes, and contract and procurement disputes.

(iii) Provide ADR services for:

(A) The Secretary of Agriculture.

(B) The general officers of the Department.

(C) The offices and agencies reporting to the Assistant Secretary for Administration.

(D) Any other office or agency of the Department as may be agreed.

(iv) Develop and issue standards for mediators and other ADR neutrals utilized by the Department.

(v) Coordinate ADR activities throughout the Department.

(vi) Monitor agency ADR programs and report at least annually to the Secretary on the Department's ADR activities.

(21) Redelegate, as appropriate, any authority delegated under paragraphs (a)(1) through (a)(20) of this section to general officers of the Department and heads of Departmental agencies, provided that the Director, Office of Human Resources Management retains the authority to make final decisions in any human resources matter so redelegated.

(22) Related to Ethics. Provide administrative supervision for the Office of Ethics.

(b) Reservations. The following authorities are reserved to the Assistant Secretary for Administration:

(1) Authorize organizational changes occurring in a Department agency or staff office which affect the overall structure of that service or office; i.e., require a change to that service or office's overall organization chart.

(2) Approve coverage and waiver of individual law enforcement and firefighter positions under the special retirement provisions of the Civil Service Retirement System and the Federal Employees Retirement System.

§ 2.92 Director, Office of Small and Disadvantaged Business Utilization.

(a) Delegations. Pursuant to § 2.24(a)(5), and with due deference for delegations to other Departmental Management officials, the following delegations of authority are made by the Assistant Secretary for Administration to the Director, Office of Small and Disadvantaged Business Utilization:

(1) The Director, Office of Small and Disadvantaged Business Utilization, under the supervision of the Assistant Secretary for Administration, has specific responsibilities under the Small Business Act, 15 U.S.C. 644(k). These duties include being responsible for the following:

(i) Administer the Department's small and disadvantaged business activities related to procurement contracts, minority bank deposits, and grants and loan activities affecting small and minority businesses including women-owned business, and the small business, small minority business, and small women-owned business subcontracting programs.

(ii) Provide Departmentwide liaison and coordination of activities related to small, small disadvantaged, and women-owned businesses with the Small Business Administration and others in public and private sector.

(iii) Develop policies and procedures required by the applicable provision of the Small Business Act, as amended, to include the establishment of goals.

(iv) Implement and administer programs described under sections 8 and 15 of the Small Business Act, as amended (15 U.S.C. 637 and 644).

(v) In compliance with the Veterans Benefits Act of 2003 (Pub. L. 108-183) amending the Small Business Act, implement and administer procurement programs for small business concerns owned and controlled by service-disabled veterans.

(2) The Director, Office of Small and Disadvantaged Business Utilization, also has the following responsibilities:

(i) In compliance with the Javits-Wagner-O'Day Act (41 U.S.C. 46 et seq.), implement and administer the Department's AbilityOne program for purchases from qualified nonprofit agencies for the blind or for the severely disabled.

(ii) [Reserved]

(b) [Reserved]

§ 2.93 Director, Office of Procurement and Property Management.

(a) Delegations. Pursuant to §§ 2.24(a)(6) and 2.24(a)(13), and with due deference for delegations to other Departmental Management officials, the following delegations of authority are made by the Assistant Secretary for Administration to the Director, Office of Procurement and Property Management:

(1) Exercise full Departmentwide contracting and procurement authority.

(2) Promulgate policies, standards, techniques, and procedures, and represent the Department, in the following:

(i) Acquisition, including, but not limited to, the procurement of supplies, services, equipment, and construction.

(ii) Socioeconomic programs relating to contracting.

(iii) Selection, standardization, and simplification of program delivery processes utilizing contracts.

(iv) Acquisition, leasing, utilization, value analysis, construction, maintenance, and disposition of real and personal property, including control of space assignments.

(v) Motor vehicle and aircraft fleet and other vehicular transportation.

(vi) Transportation of things (traffic management).

(vii) Prevention, control, and abatement of pollution with respect to Federal facilities and activities under the control of the Department (Executive Order 12088, “Federal Compliance With Pollution Control Standards,” 3 CFR, 1978 Comp., p. 243).

(viii) Implementation of the Uniform Relocation Assistance and Real Property Acquisition Policies Act of 1970 (42 U.S.C. 4601, et seq.).

(ix) Development and implementation of sustainable operations actions including establishing and achieving greenhouse gas emission reduction goals, reducing energy intensity, increasing renewable energy use, increasing water efficiency, reducing petroleum use and increasing alternative fuel use, increasing recycling and waste diversion, preventing pollution, reducing use of toxic chemicals, procuring sustainable products and services, achieving sustainable principles for new and existing buildings, promoting electronic stewardship, and continuing environmental management system use. Maintain liaison with the Office of the Federal Environmental Executive, the Council on Environmental Quality, the Office of Management and Budget (OMB), the Department of Energy, and other Government agencies in these matters.

(x) Implementation of a program for the Federal procurement of biobased products and of a voluntary “USDA Certified Biobased product” labeling program (7 U.S.C. 8102).

(xi) Entering into cooperative agreements to further research programs in the food and agricultural sciences, related to establishing and implementing Federal biobased procurement and voluntary biobased labeling programs (7 U.S.C. 3318).

(xii) Implementation of the policies and procedures set forth in OMB Circular No. A-76, Performance of Commercial Activities.

(3) Exercise the following special authorities:

(i) The Director, Office of Procurement and Property Management, is designated as the Departmental Debarring Officer and authorized to perform the functions of 48 CFR part 9, subpart 9.4 related to procurement activities, except for commodity acquisitions on behalf of the Commodity Credit Corporation (7 CFR part 1407), with authority to redelegate suspension and debarment authority for contracts awarded under the School Lunch and Surplus Removal Programs (42 U.S.C. 1755 and 7 U.S.C. 612c).

(ii) Conduct liaison with the Office of Federal Register (1 CFR part 16) including the making of required certifications pursuant to 1 CFR part 18.

(iii) Maintain custody and permit appropriate use of the official seal of the Department.

(iv) Establish policy for the use of the official flags of the Secretary and the Department.

(v) Coordinate collection and disposition of personal property of historical significance.

(vi) Make information returns to the Internal Revenue Service as prescribed by 26 U.S.C. 6050M and by 26 CFR 1.6050M-1 and such other Treasury regulations, guidelines or procedures as may be issued by the Internal Revenue Service in accordance with 26 U.S.C. 6050M. This includes making such verifications or certifications as may be required by 26 CFR 1.6050M-1 and making the election allowed by 26 CFR 1.6050M-1(d)(5)(1).

(vii) Promulgate regulations for the management of contracting and procurement for information technology and telecommunication equipment, software, services, maintenance and related supplies.

(viii) Represent the Department in working with the Government Accountability Office (GAO), the General Services Administration, OMB, and other organizations or agencies on matters related to assigned responsibilities.

(ix) Redelegate, as appropriate, the authority in paragraphs (a)(10) and (a)(12) of this section to agency Property Officials or other qualified agency officials with no power of further redelegation.

(4) Exercise authority under the Department's Acquisition Executive (the Assistant Secretary for Administration) to integrate and unify the management process for the Department's major system acquisitions and to monitor implementation of the policies and practices set forth in OMB Circular No. A-109, Major Systems Acquisitions, with the exception that major system acquisitions for information technology shall be under the cognizance of the Chief Information Officer. This delegation includes the authority to:

(i) Ensure that OMB Circular No. A-109 is effectively implemented in the Department and that the management objectives of the Circular are realized.

(ii) Review the program management of each major system acquisition, excluding information technology.

(iii) Designate the program manager for each major system acquisition, excluding information technology.

(iv) Designate any Departmental acquisition, excluding information technology, as a major system acquisition under OMB Circular No. A-109.

(5) Pursuant to Executive Order 12931, “Federal Procurement Reform,” 3 CFR, 1994 Comp., p. 925, and sections 16, 22, and 37 of the Office of Federal Procurement Policy Act, as amended, 41 U.S.C. 414, 418b, and 433, serve as the Senior Procurement Executive for the Department with responsibility for the following:

(i) Prescribing and publishing Departmental acquisition policies, advisories, regulations, and procedures.

(ii) Taking any necessary actions consistent with policies, regulations, and procedures, with respect to purchases, contracts, leases, agreements, and other transactions.

(iii) Designating contracting officers.

(iv) Establishing clear lines and limitations of contracting authority through written delegations of authority.

(v) Approving any Departmental and component agency procurement systems and processes.

(vi) Managing and enhancing career development of the Department's acquisition workforce.

(vii) Participating in the development of Governmentwide procurement policies, regulations and standards, and determining specific areas where Governmentwide performance standards should be established and applied.

(viii) Developing unique Departmental standards as required.

(ix) Overseeing the development of procurement goals, guidelines, and innovation.

(x) Measuring and evaluating procurement office performance against stated goals.

(xi) Advising the Assistant Secretary for Administration whether procurement goals are being achieved.

(xii) Prescribing standards for agency Procurement Executives.

(xiii) Redelegating, suspending, or revoking, as appropriate, the authority in paragraph (a)(5)(i) of this section to agency Procurement Executives or other qualified agency officials with no power of further redelegation.

(xiv) Redelegating, suspending, or revoking, as appropriate, the authorities in paragraphs (a)(5)(ii), (iii), (iv), (vi), and (vii) of this section to agency Procurement Executives or other qualified agency officials with the power of further redelegation.

(6) Represent the Department in establishing standards for acquisition transactions within the electronic data interchange environment.

(7) Designate the Departmental Task Order Ombudsman pursuant to 41 U.S.C. 253j.

(8) Serve as Departmental Remedy Coordination Official pursuant to 41 U.S.C. 255 to determine whether payment to any contractor should be reduced or suspended based on substantial evidence that the request of the contractor for advance, partial, or progress payment is based on fraud.

(9) Review and approve exemptions for USDA contracts, subcontracts, grants, agreements, and loans from the requirements of the Clean Air Act, as amended (42 U.S.C. 7401, et seq.), the Federal Water Pollution Control Act, as amended (33 U.S.C. 1251, et seq.), and Executive Order 11738, “Providing for Administration of the Clean Air Act and the Federal Water Pollution Control Act With Respect to Federal Contracts, Grants, or Loans,” 3 CFR, 1971-1975 Comp., p. 799, when he or she determines that the paramount interest of the United States so requires as provided in these acts and Executive Order and the regulations of the EPA (2 CFR 1532.1140).

(10) Transfer excess research equipment to eligible educational institutions or certain non-profit organizations for the conduct of technical and scientific education and research activities under section 11(i) of the Stevenson-Wydler Technology Innovation Act of 1980 (15 U.S.C. 3710(i)) (7 CFR part 2812).

(11) Promulgate policy and obtain and furnish Federal excess personal property in accordance with section 923 of Public Law 104-127 (7 U.S.C. 2206a), to support research, educational, technical and scientific activities or for related programs, to:

(i) Any 1994 Institutions (as defined in section 532 of the Equity in Educational Land-Grant Status Act of 1994 (Pub. L. 103-382; 7 U.S.C. 301 note)).

(ii) Any Institutions eligible to receive funds under the Act of August 30, 1890 (7 U.S.C. 321, et seq.) including Tuskegee University.

(iii) Any Hispanic-serving Institutions (as defined in section 316(b) of the Higher Education Act of 1965 (20 U.S.C. 1059c(b)).

(12) Make available to organizations excess or surplus computers or other technical equipment of the Department for the purpose of distribution to cities, towns, or local government entities in rural areas (7 U.S.C. 2206b).

(13) Issue regulations and directives to implement or supplement the Federal Acquisition Regulations (48 CFR chapter 1 and 4).

(14) Issue regulations and directives to implement or supplement the Federal Property Management Regulations (41 CFR chapter 101) and the Federal Management Regulation (41 CFR chapter 102).

(15) [Reserved]

(16) Pursuant to the Office of Federal Procurement Policy Act (Act), as amended (41 U.S.C. 401, et seq.), designate the Department's Advocate for Competition with the responsibility for section 20 of the Act (41 U.S.C. 418), including:

(i) Reviewing the procurement activities of the Department.

(ii) Developing new initiatives to increase full and open competition.

(iii) Developing goals and plans and recommending actions to increase competition.

(iv) Challenging conditions unnecessarily restricting competition in the acquisition of supplies and services.

(v) Promoting the acquisition of commercial items.

(vi) Designating an Advocate for Competition for each procuring activity within the Department.

(17) Related to compliance with environmental laws and sustainable operating requirements.

(i) Serve as Departmental Management Member and Executive Secretary of the USDA Sustainable Operations Council.

(ii) Represent USDA in consulting or working with the EPA, the Council on Environmental Quality, the Domestic Policy Council, and others to develop policies relating to hazardous materials management and Federal facilities compliance with applicable pollution control laws.

(iii) Monitor, review, evaluate, and oversee hazardous materials management program activities and compliance Department-wide.

(iv) Monitor, review, evaluate, and oversee USDA agency expenditures for hazardous materials management program accomplishments.

(v) Represent USDA on the National Response Team and exercise responsibility for USDA response efforts for hazardous substance releases and oil spills pursuant to the Comprehensive Environmental Response, Compensation, and Liability Act of 1980, as amended (42 U.S.C. 9601, et seq.); the Clean Water Act, as amended (33 U.S.C. 1251, et seq.); Oil Pollution Act, as amended (33 U.S.C. 2701, et seq.); Executive Order 12580, “Superfund Implementation,” 3 CFR, 1987 Comp., p. 193; Executive Order 12777, “Implementation of section 311 of the Federal Water Pollution Control Act of October 18, 1972, as amended, and the Oil Pollution Act of 1990,” 3 CFR, 1991 Comp., p. 351, and the National Oil and Hazardous Substances Contingency Plan, 40 CFR Part 300. When a spill of national significance is declared under the Oil Pollution Act of 1990, responsibility for USDA response efforts will transfer to the Office of Homeland Security and Emergency Coordination, as determined by the Assistant Secretary for Administration.

(vi) Approve disbursements from the New World Mine Response and Restoration Account, approve the New World Mine Response and Restoration Plan, and make quarterly reports to Congress under Sections 502(d) and (f) of Title V of the Department of the Interior and Related Agencies Appropriations Act of 1998, Public Law 105-83.

(vii) Ensure that the Hazardous Materials Management Program Department-wide is accomplished with regard to, and in compliance with, Executive Order 12898, “Federal Actions to Address Environmental Justice in Minority Populations and Low-Income Populations,” 3 CFR, 1994 Comp., p. 859.

(viii) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, “Superfund Implementation,” 3 CFR, 1987 Comp., p. 193, as amended by Executive Order 13016, “Amendment to Executive Order No. 12580,” 3 CFR, 1996 Comp., p. 214.

(ix) Represent USDA on the EPA Brownfields Federal Partnership and coordinate USDA support for Brownfields redevelopment and establish policy and guidance for the implementation of the June 2003 amendment to Executive Order 12580, “Superfund Implementation,” 3 CFR, 1987 Comp., p. 193 (Executive Order 13308, “Further Amendment to Executive Order 12580, As Amended, Superfund Implementation,” 3 CFR, 2003 Comp., p. 239).

(18) Related to occupational safety and health.

(i) Establish Departmentwide safety and health policy and provide leadership in the development, coordination, and implementation of related standards, techniques, and procedures, and represent the Department in complying with laws, Executive Orders and other policy and procedural issuances and related to occupational safety and health and workers' compensation programs within the Department.

(ii) Represent the Department in all rulemaking, advisory, or legislative capacities on any groups, committees, or Governmentwide activities that affect the USDA Occupational Safety and Health Management Program.

(iii) Determine and provide Departmentwide technical services and regional staff support for the safety and health programs.

(iv) Administer the computerized management information systems for the collection, processing, and dissemination of data related to the Department's occupational safety and health programs.

(v) Administer the Department's Occupational Health and Preventive Medicine Program, as well as design and operate employee assistance and workers' compensation activities.

(vi) Provide education and training on a Departmentwide basis for safety and health-related issues and develop resource and operational manuals.

(19) In coordination with the Chief Financial Officer, implement the debarment authorities in section 14211 of the Food, Conservation, and Energy Act of 2008 (7 U.S.C. 2209j), in connection with procurement activities.

(b) [Reserved]

§ 2.94 Director, Office of Advocacy and Outreach.

(a) Delegations. Pursuant to § 2.24(a)(7), and with due deference for delegations to other Departmental Management officials, the following delegations of authority are made by the Assistant Secretary for Administration to the Director, Office of Advocacy and Outreach:

(1) Ensure that small farms and ranches, beginning farmers or ranchers, and socially disadvantaged farmers or ranchers have access to, and equitable participation in, programs and services of the Department pursuant to section 226B(c) of the Department of Agriculture Reorganization Act of 1994 (7 U.S.C. 6934(c)).

(2) Oversee the Advisory Committee for Beginning Farmers and Ranchers.

(3) Oversee the operations of the Office of Small Farms Coordination.

(4) Administer section 2501 of the Food, Agriculture, Conservation, and Trade Act of 1990 (7 U.S.C. 2279), except for authorities related to the Census of Agriculture and economic studies in subsection (h) of that section.

(5) Establish and oversee the Minority Farmer Advisory Committee pursuant to section 14008 of FCEA (7 U.S.C. 2279 note).

(6) Administer the low-income migrant and seasonal farmworker grants program under section 2281 of the Food, Agriculture, Conservation, and Trade Act of 1990 (42 U.S.C. 5177a).

(7) Consult with appropriate entities regarding integration of farmworker interests into Department programs, including assisting farmworkers in becoming agricultural producers or landowners, and research, program improvements, and agricultural education opportunities for low-income and migrant seasonal farmworkers.

(8) Administer the grants program under section 14204 of FCEA (7 U.S.C. 2008q-1) to improve the supply, stability, safety, and training of the agricultural labor force.

(9) Administer and coordinate a USDA outreach program in collaboration with USDA agencies.

(10) Administer section 2501A of the Food, Agriculture, Conservation, and Trade Act of 1990 (7 U.S.C. 2279-1), including the authority to coordinate Department policy for the issuance of receipts under subsection (e) of that section.

(11) Provide strategic planning and performance measurement, coordinate outreach activities, monitor goals and objectives, and evaluate programs, of Department programs and activities involving small farms or ranches and beginning or socially disadvantaged farmers or ranchers.

(12) Administer the USDA/1994 Land Grant Institutions (Tribal Colleges) Programs.

(13) Administer the USDA/1890 Liaison Officer Program.

(14) Administer the Hispanic Serving Institutions National Program.

(b) [Reserved]

§ 2.95 Director, Office of Homeland Security and Emergency Coordination.

(a) Delegations from the Secretary. Pursuant to Executive Order 10450, “Security Requirements for Government Employment” (18 FR 2489, Apr. 29, 1953); Executive Order 12968, “Access to Classified Information,” 3 CFR, 1995 Comp., p. 391; Executive Order 13526, “Classified National Security Information” (75 FR 707, Jan. 5, 2010); and 5 CFR part 732, and with due deference for delegations to other Departmental Management officials, the following delegations of authority are made by the Secretary to the Director, Office of Homeland Security and Emergency Coordination, pursuant to the Director's responsibilities as the Departmental National Security Programs Officer, as designated by the Secretary:

(1) Manage the personnel security functions of the Department, which includes sole authority for making eligibility access determinations and sponsoring Sensitive Compartmented Information clearances; obtaining and granting security clearances for USDA employees and consultants and volunteers on authorized agreements; and suspending, denying, or revoking access to national security information (Executive Order 12968 “Access to Classified Information”, as amended), notwithstanding the Secretary's authority to remove an employee for national security reasons as outlined in 5 U.S.C. 7532.

(2) Manage, coordinate, develop, and promulgate policies and training regarding personnel security, and serve as USDA's personnel security liaison to the Office of Personnel Management and Director of National Intelligence.

(3) Review and develop recommendations on classifying, declassifying, and safeguarding national security information for which the Secretary is responsible as Original Classification Authority.

(b) Delegations from the Assistant Secretary for Administration. Pursuant to § 2.24(a)(8), and with due deference for delegations to other Departmental Management officials, the following delegations of authority are made by the Assistant Secretary for Administration to the Director, Office of Homeland Security and Emergency Coordination:

(1) Administer the Department Emergency Preparedness Program. This includes:

(i) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management,” 3 CFR, 1979 Comp., p. 412, 12919, “National Defense Industrial Resources Preparedness,” 3 CFR, 1994 Comp., p. 901, and 12656, “Assignment of Emergency Preparedness Responsibilities,” 3 CFR, 1988 Comp., p. 585; or any successor to these Executive Orders, to ensure that the Department has sufficient capabilities to respond to any occurrence, including natural disaster, military attack, technological emergency, or any other all hazards incident.

(ii) Manage the Department Emergency Operations Center at Headquarters and the Secretary's alternative facilities; provide senior staff with international, national, and regional situational awareness reports; and provide and maintain current information systems technology and National Security Systems to support USDA executive crisis management capability.

(iii) Provide facilities and equipment to facilitate inter-agency coordination during emergencies.

(iv) Activate the USDA incident management system in accordance with the National Response Framework and the National Incident Management System in the event of a major incident; and provide oversight and coordination of the Department's Emergency Support Functions as outlined in the National Response Framework.

(v) Develop and promulgate policies for the Department regarding emergency preparedness and national security, including matters relating to anti-terrorism and agriculture-related emergency preparedness planning, both national and international, and guidance to USDA State and County Emergency Boards.

(vi) Establish and provide oversight of a Department-wide training program for the National Incident Management System to include Incident Command System, National Response Framework, Continuity programs, and Critical Infrastructure Protection program.

(vii) Provide representation and liaison for the Department in contacts with other Federal entities and organizations, including the National Security Council, Homeland Security Council, Office of Management and Budget, Department of Homeland Security, Federal Emergency Management Agency, Office of The Director of National Intelligence, and Department of Defense concerning matters of a national security, natural disaster, other emergencies, and agriculture/food-related international civil emergency planning and related activities.

(viii) Act as the primary USDA representative for anti-terrorism activities.

(ix) Develop and submit a coordinated budget request for homeland security requirements.

(x) Provide guidance and direction regarding radiological emergency preparedness programs and the implementation of the National Response Framework's Nuclear/Radiological Incident Annex to Departmental staff offices, mission areas, and agencies.

(xi) Provide program leadership and coordination for USDA's radiological emergency preparedness requirements with respect to Emergency Management and Assistance (44 CFR parts 350-352).

(xii) Represent USDA on the Federal Radiological Preparedness Coordinating Committee (FRPCC) and Regional Assistance Committees (RACs) and assist them in carrying out their functions.

(xiii) Support USDA in its management of the Department's emergency response program with respect to radiological emergency response activities.

(xiv) Exercise responsibility for USDA response efforts when a spill of national significance is declared under the Oil Pollution Act of 1990, as determined by the Assistant Secretary for Administration.

(2) Provide for the personal security to the Secretary and the Deputy Secretary.

(3) Serve as the primary point of contact for Government Accountability Office (GAO) and Office of the Inspector General (OIG) audits of USDA homeland security activities.

(4) Coordinate interaction between Department agencies and private sector businesses and industries in emergency planning and public education under Department authorities delegated or assigned under the National Response Framework, National Infrastructure Protection Plan, Defense Production Act of 1950, 50 U.S.C. App. 2061, et seq., and Robert T. Stafford Disaster Relief and Emergency Assistance Act, 42 U.S.C. 5121, et seq.

(5) Oversee the Department's ability to collect and disseminate information and prepare for an agricultural disease emergency, agroterrorist act, or other threat to agricultural biosecurity, and coordinate such activities among agencies and offices within the Department (7 U.S.C. 8912).

(6) Administer a funded competitive grant program to support the development and expansion of advanced training programs in agricultural biosecurity planning and response for food science professionals and veterinarians; administer a funded competitive grant and low-interest loan assistance program to assist States in assessing agricultural disease response capability (7 U.S.C. 8913).

(7) Promulgate Departmental policies, standards, techniques, and procedures; and represent the Department in maintaining the security of physical facilities and providing security guidance to the Food and Agricultural Sector nationwide.

(i) Lead and coordinate the development and maintenance of a mission critical facility inventory with agency involvement to ensure proper security countermeasures are implemented in the Department's most critical infrastructure.

(ii) Provide guidance to USDA agencies in matters of physical security through use of physical security assessments and development of mitigation strategies.

(iii) Provide guidance to USDA agencies and the Food and Agricultural Sector in matters of security through use of assessments and development of mitigation strategies.

(iv) Represent and act as liaison for the Department in contacts with other Federal security entities and organizations, including the Interagency Security Committee and the Department of Homeland Security.

(v) Provide guidance and direction to ensure physical security and agriculture/food security are fully integrated in USDA's security preparations, which are reported to and coordinated with the White House.

(vi) Provide assistance to the USDA agencies in preparation for and during a disaster to identify critical assets and possible alternate storage locations.

(vii) Conduct physical security investigations and compliance reviews Department-wide.

(viii) Review and provide coordinated technical physical security assessments for all new construction of laboratories, data centers, germplasm repositories, and other mission critical infrastructure during the design phase, and all leased facilities prior to contract award.

(ix) Oversee and manage physical security aspects of the Common Identification Card (LincPass) Program to ensure National Institute of Standards and Technology (NIST) and General Services Administration (GSA) compliancy within the National Capital Region and the physical access to USDA facilities.

(x) Provide enterprise connectivity to agency physical access control systems that provide cost leveraging and provisioning/de-provisioning nationwide.

(8) Provide oversight and coordination of the development and administration of the Department Continuity Program. This includes:

(i) Provide guidance and direction regarding continuity of operations to the Office of the Secretary, Departmental staff offices, mission areas, and agencies.

(ii) Represent and act as liaison for the Department in contacts with other Federal entities and organizations concerning matters of assigned continuity program responsibilities.

(iii) Oversee Department continuity of operations and emergency relocation facility planning, development, equipping, and preparedness to ensure that resources are in a constant state of readiness.

(9) Provide for the development and administration of a Public Trust program for the safeguarding of national security information:

(i) Direct and administer USDA's public trust program established pursuant to 5 CFR part 731 and Executive Order 13488, “Granting Reciprocity on Excepted Service and Federal Contractor Employee Fitness and Reinvestigating Individuals in Positions of Public Trust” (74 FR 4111, Jan. 22, 2009).

(ii) Direct and administer USDA's program under which information is safeguarded pursuant to Executive Order 13526, “Classified National Security Information” (75 FR 707, Jan. 5, 2010), or subsequent orders.

(iii) Establish and maintain Information Security policies and procedures for classifying, declassifying, safeguarding, and disposing of classified national security information and materials.

(iv) Investigate or delegate authority to investigate any potential compromises of classified national security information and take corrective action for violations or infractions under section 5.5 (b), of Executive Order 13526 or any subsequent order.

(v) Develop and maintain oversight of all facilities throughout USDA where classified national security information is or will be safeguarded, discussed, or processed including sole authority to liaison with the Central Intelligence Agency concerning guidance, approval, requirements, and oversight of USDA secure facilities.

(vi) Act as the USDA focal point to identify, receive, disseminate and safeguard USDA related intelligence information as required; convey information to USDA policy officials; and liaise with the intelligence community, as appropriate.

(10) Control within USDA the acquisition, use, and disposal of material and equipment that can be a source of ionizing radiation.

(i) Promulgate policies and procedures for ensuring the safety of USDA employees, the public, and the environment resulting from USDA's use of ionizing radiation sources.

(ii) Maintain and ensure compliance with the Nuclear Regulatory Commission regulations (Title 10, Code of Federal Regulations) and license(s) issued to USDA for the acquisition, use, and disposal of radioactive materials.

§ 2.96 Director, Office of Operations.

(a) Delegations. Pursuant to § 2.24(a)(9), and with due deference for delegations to other Departmental Management officials, the following delegations of authority are made by the Assistant Secretary for Administration to the Director, Office of Operations:

(1) Provide services relating to facilities management and daily operational support for agencies and offices occupying USDA's headquarters complex, George Washington Carver Center, and, in coordination with the General Services Administration (GSA), USDA leased facilities in the Washington, DC metropolitan area, as well as at emergency relocation sites and certain critical facilities specified by the Assistant Secretary for Administration in the following areas:

(i) Acquiring, leasing, utilizing, constructing, maintaining, and disposing of real property, including control of space assignments, and architecture and engineering design oversight.

(ii) Sustainable Operations leadership and management in the areas of internal energy efficiency, conservation and recycling in support of Executive Orders 13423, “Strengthening Federal Environmental, Energy, and Transportation Management,” 3 CFR, 2007 Comp., p. 193, and 13514, “Federal Leadership in Environmental, Energy, and Economic Performance” (74 FR 52117, Oct. 8, 2009).

(iii) Occupational health, safety, and related functions; and environmental compliance pursuant to Executive Order 12088, “Federal Compliance with Pollution Control Standards,” 3 CFR, 1978 Comp., p. 243, to ensure actions are taken for the prevention, control, and abatement of environmental pollution.

(2) Provide centralized Departmental business services including:

(i) Printing, copy reproducing, offset composing, mail management and delivery, and automated mailing lists.

(ii) USDA Nationwide mail management policy.

(iii) Operation of a disability resource center for all USDA agencies in the Washington, DC metropolitan area and nationwide in the areas of accessible technologies and reasonable accommodations.

(iv) General supplies, shipping and receiving, warehouse and labor services.

(v) Operation of a USDA Consolidated Forms and Publications Distribution Center for storage and nationwide distribution of USDA program forms and publications.

(vi) Excess personal property operations with disposition responsibility for all USDA agencies in the Washington, DC metropolitan area.

(vii) Operation of a GSA authorized Federal excess property Sales Center for USDA property and other government agencies in the Washington, DC metropolitan area via Memorandum of Understanding (MOU).

(3) Promulgate Departmental regulations, standards, techniques, and procedures and represent the Department in managing and maintaining a comprehensive physical and technical security program including access control, management of special police officer and guard services, executive driving, parking, ID badging in accordance with HSPD-12, occupant emergency and warden services at the USDA Headquarters Complex, George Washington Carver Center and, in coordination with GSA, USDA leased facilities in the Washington, DC metropolitan area, as well as at emergency relocation sites and certain critical facilities specified by the Assistant Secretary for Administration.

(4) Provide management and oversight of the Secretary's People's Garden initiative and the USDA Visitor's Center for education and outreach to USDA and the public.

(5) Represent the Department in contacts with other organizations or agencies on matters related to assigned responsibilities.

(b) [Reserved]

§ 2.97 Director, Office of the Executive Secretariat.

(a) Delegations. Pursuant to § 2.24(a)(10), and with due deference for delegations to other Departmental Management officials, the following delegations of authority are made by the Assistant Secretary for Administration to the Director, Office of the Executive Secretariat:

(1) Exercise responsibility for all correspondence control and related records management functions for the Office of the Secretary.

(2) Provide administrative, editorial, and project management support services to the Immediate Office of the Secretary.

(b) [Reserved]

§ 2.98 Director, Management Services.

(a) Delegations. Pursuant to § 2.24(a)(11), and with due deference for delegations to other Departmental Management officials, the following delegations of authority are made by the Assistant Secretary for Administration to the Director, Management Services:

(1) Provide a full range of services, including: Procurement of supplies, services, and equipment; travel support, conference management, general administrative support including coordination of office renovations and moves (within USDA Whitten Building); budget, accounting, fiscal and related financial management services; information technology services related to end user office automation, desktop computers, enterprise networking support, handheld devices and voice telecommunications; with authority to take actions required by law or regulation to perform said services for:

(A) The Secretary of Agriculture.

(B) The general officers of the Department, except the Inspector General.

(C) The offices and agencies reporting to the Assistant Secretary for Administration.

(D) Any other offices or agencies of the Department as may be agreed.

(2) Prepare responses to requests under the Freedom of Information Act with authority to take actions as required by law or regulation for the offices and agencies reporting to the Assistant Secretary for Administration.

(3) Administer the records management program in support of Departmental Management, and prepare and coordinate responses to management audits by the Inspector General and the Government Accountability Office, with authority to take actions as required by law or regulation for the offices and agencies reporting to the Assistant Secretary for Administration.

(4) Provide administrative and financial management support in the award and administration of grants, cooperative agreements, and Memoranda of Understanding in support of Departmental Management programs, with authority to take actions as required by law or regulation for the offices and agencies reporting to the Assistant Secretary for Administration.

(5) Provide human resources operational services for the following (with the exception of Senior Executives, Senior Level positions, and Political Appointees):

(i) The Secretary of Agriculture.

(ii) The general officers of the Department.

(iii) The offices and agencies reporting to the Assistant Secretary for Administration.

(iv) Any other offices and agencies of the Department as may be agreed.

(b) [Reserved]

29. Revise subpart Q to read as follows:

Subpart Q—Delegations of Authority by the General Counsel

Sec.
2.200 Deputy General Counsel.

§ 2.200 Deputy General Counsel.

Pursuant to § 2.31, the following delegation of authority is made by the General Counsel to the Deputy General Counsel, to be exercised only during the absence or unavailability of the General Counsel: Perform all duties and exercise all powers which are now or which may hereafter be delegated to the General Counsel.

30. Revise subpart R to read as follows:

Subpart R—Delegations of Authority by the Assistant Secretary for Civil Rights

Sec.
2.300 Deputy Assistant Secretary for Civil Rights.

§ 2.300 Deputy Assistant Secretary for Civil Rights.

Pursuant to § 2.88, the following delegation of authority is made by the Assistant Secretary for Civil Rights to the Deputy Assistant Secretary for Civil Rights, to be exercised only during the absence or unavailability of the Assistant Secretary: Perform all duties and exercise all powers which are now or which may hereafter be delegated to the Assistant Secretary.

31. Add a new subpart S to read as follows:

Subpart S—Delegations of Authority by the Chief Information Officer

Sec.
2.400 Deputy Chief Information Officer.

§ 2.400 Deputy Chief Information Officer.

Pursuant to § 2.89, the following delegation of authority is made by the Chief Information Officer to the Deputy Chief Information Officer, to be exercised only during the absence or unavailability of the Chief Information Officer: Perform all duties and exercise all powers which are now or which may hereafter be delegated to the Chief Information Officer.

32. Add a new subpart T to read as follows:

Subpart T—Delegations of Authority by the Chief Financial Officer

Sec.
2.500 Deputy Chief Financial Officer.
2.501 Director, Office of Budget and Program Analysis.

§ 2.500 Deputy Chief Financial Officer.

Pursuant to § 2.90, the following delegation of authority is made by the Chief Financial Officer to the Deputy Chief Financial Officer, to be exercised only during the absence or unavailability of the Chief Financial Officer: Perform all the duties and exercise all the powers which are now or which may hereafter be delegated to the Chief Financial Officer.

§ 2.501 Director, Office of Budget and Program Analysis.

(a) The following delegations of authority are made by the Chief Financial Officer to the Director, Office of Budget and Program Analysis:

(1) Serve as the Department's Budget Officer and exercise general responsibility and authority for all matters related to the Department's budgeting affairs including:

(i) Resource administration, including all phases of the acquisition, and distribution of funds and staff years.

(ii) Legislative and regulatory reporting and related activities.

(2) Provide staff assistance for the Secretary, general officers, and other Department and agency officials.

(3) Formulate and promulgate Departmental budgetary, legislative and regulatory policies and procedures.

(4) Represent the Department in contacts with the Office of Management and Budget, the Government Accountability Office, the Department of the Treasury, Congressional Committees on Appropriations, and other organizations and agencies on matters related to his or her responsibility.

(5) Coordinate and/or conduct policy and program analyses on agency operations and proposals to assist the Secretary, general officers and other Department and agency officials in formulating and implementing USDA policies and programs.

(6) Review and analyze legislation, regulations, and policy options to determine their impact on USDA programs and policy objectives and on the Department's budget.

(7) Monitor ongoing studies with significant program or policy implications.

(b) [Reserved]

Dated: July 8, 2010.
Thomas J. Vilsack,
Secretary of Agriculture.

[FR Doc. 2010-17465 Filed 7-20-10; 4:15 pm]

BILLING CODE 3410-90-P